DEPARTMENT OF THE TREASURY

Alcohol and Tobacco Tax and Trade Bureau

27 CFR Part 9

[Docket No. TTB-2013-0009; Notice No. 140]

RIN 1513-AB47

Proposed Establishment of the Adelaida District, Creston District, El Pomar District, Paso Robles Estrella District, Paso Robles Geneseo District, Paso Robles Highlands District, Paso Robles Willow Creek District, San Juan Creek, San Miguel District, Santa Margarita Ranch, and Templeton Gap District Viticultural Areas

AGENCY: Alcohol and Tobacco Tax and Trade Bureau, Treasury.

ACTION: Notice of proposed rulemaking.

SUMMARY: The Alcohol and Tobacco Tax and Trade Bureau (TTB) proposes to establish the Adelaida District, Creston District, El Pomar District, Paso Robles Estrella District, Paso Robles Geneseo District, Paso Robles Highlands District, Paso Robles Willow Creek District, San Juan Creek, San Miguel District, Santa Margarita Ranch, and Templeton Gap District viticultural areas within the boundary of the existing Paso Robles viticultural area in northern San Luis Obispo County, California. The Paso Robles viticultural area, in turn, is located within the larger multicounty Central Coast viticultural area. TTB designates viticultural areas to allow vintners to better describe the origin of their wines and to allow consumers to better identify wines they may purchase. TTB invites comments on these proposed additions to its regulations.

DATES: TTB must receive your comments on or before January 21, 2014.

ADDRESSES: Please send your comments on this proposal to one of the following addresses:

• http://www.regulations.gov (via the online comment form for this proposal as posted within Docket No. TTB-2013-0009 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200E, Washington, DC 20005.

See the Public Participation section of this document for specific instructions and requirements for submitting comments, and for information on how to request a public hearing.

You may view copies of this document, selected supporting materials, and any comments TTB receives about this proposal at http://www.regulations.gov within Docket No. TTB-2013-0009. A link to that docket is posted on the TTB Web site at http://www.ttb.gov/wine/wine-rulemaking.shtml under Notice No. 140. You also may view copies of this document, all related petitions, maps or other supporting materials, and any comments TTB receives about this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Room 200E, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations, among other things, should prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated January 21, 2003, to the TTB Administrator to perform the functions and duties in the administration and enforcement of this law.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas and lists the approved American viticultural areas.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations (27 CFR 4.25(e)(2)) outlines the procedure for proposing an American viticultural area and provides that any interested party may petition TTB to establish a grape-growing region as a viticultural area. Section 9.12 of the TTB regulations (27 CFR 9.12) prescribes standards for petitions for the establishment or modification of American viticultural areas. Such petitions must include the following:

• Evidence that the area within the proposed viticultural area boundary is nationally or locally known by the viticultural area name specified in the petition;

• An explanation of the basis for defining the boundary of the proposed viticultural area;

• A narrative description of the features of the proposed viticultural area that affect viticulture, such as climate, geology, soils, physical features, and elevation, that make the proposed viticultural area distinctive and distinguish it from adjacent areas outside the proposed viticultural area boundary;

• A copy of the appropriate United States Geological Survey (USGS) map(s) showing the location of the proposed viticultural area, with the boundary of the proposed viticultural area clearly drawn thereon; and

• A detailed narrative description of the proposed viticultural area boundary based on USGS map markings.

Adelaida District, Creston District, El Pomar District, Paso Robles Estrella District, Paso Robles Geneseo District, Paso Robles Highlands District, Paso Robles Willow Creek District, San Juan Creek, San Miguel District, Santa Margarita Ranch, and Templeton Gap District Viticultural Area Petitions

Paso Robles American Viticultural Area Committee Petitions

The Paso Robles American Viticultural Area Committee (PRAVAC) petitioned TTB to establish 11 new viticultural areas located entirely within the existing Paso Robles viticultural area (27 CFR 9.84) in San Luis Obispo County, California. The proposed viticultural areas are: Adelaida District, Creston District, El Pomar District, Paso Robles Estrella District, Paso Robles Geneseo District, Paso Robles Highlands District, Paso Robles Willow Creek District, San Juan Creek, San Miguel District, Santa Margarita Ranch, and Templeton Gap District.

The PRAVAC proposal to establish the 11 proposed viticultural areas would not alter the current boundary or size of the Paso Robles viticultural area. According to PRAVAC, some portions of the Paso Robles viticultural area are not included in any of the 11 proposed viticultural areas because they are urban areas, are government-owned lands unavailable for commercial viticulture, or they contain little or no viticultural activity due to environmental or topographical factors. The 59 wine industry members who constitute PRAVAC cumulatively own or manage over 10,000 acres of vineyards in the 11 proposed viticultural areas.

PRAVAC also simultaneously petitioned TTB to expand the southwestern portion of the boundary of the Paso Robles viticultural area to include the majority of the southern portion of the Santa Margarita Valley, which was bisected by the then-existing boundary of the Paso Robles viticultural area. The petitioned-for expansion was approved in T.D. TTB-72 (published in the Federal Register on January 21, 2009, at 74 FR 3425).

Overview of the Paso Robles Viticultural Area

The Paso Robles viticultural area, originally established in 1983, is located in northern San Luis Obispo County, California, along its boundary with Monterey County (see T.D. ATF-148, published in the Federal Register on October 4, 1983, at 48 FR 45239). The Paso Robles viticultural area was expanded by approximately 52,600 acres in 1996 to include vineyards to the west of the viticultural area that had been planted since its establishment in 1983 (see T.D. ATF-377, published in the Federal Register on June 13, 1996, at 61 FR 29952); and, as noted above, another 2,635 acres were added to the viticultural area in 2009. In addition, the now 612,000-acre Paso Robles viticultural area is entirely within the larger, multicounty Central Coast viticultural area (27 CFR 9.75; see T.D. ATF-216, published in the Federal Register on October 24, 1985, at 50 FR 43130). The small York Mountain viticultural area (27 CFR 9.80) is located outside of the Paso Robles viticultural area along its southwestern boundary.

The Paso Robles viticultural area contains much of the San Luis Obispo County-portion of the Salinas River valley and the valley of its tributary, the Estrella River. Topographically, the Paso Robles viticultural area is a basin, with river terraces and low rolling hills, located between three ranges of California's South Coast Range mountains: the Temblor Range to the north and northeast, the La Panza Range to the south, and the Santa Lucia Range to the west and southwest.

The Paso Robles viticultural area may be described as a large polygon that spans approximately 42 miles from the Santa Lucia Range in the west to the Cholame Hills of the Temblor Range in the east, and 32 miles from the San Luis Obispo county line in the north to the La Panza Range and Los Padres National Forest in the south. The Paso Robles viticultural area includes the cities or towns of San Miguel, Paso Robles, Templeton, Atascadero, and Santa Margarita along U.S. Highway 101, and the small towns of Whitely Gardens along State Route 46, Shandon along State Route 41, and Creston along State Route 229.

As described in T.D. ATF-148, the Paso Robles viticultural area is largely protected from Pacific marine air and coastal fog intrusions by the Santa Lucia Range to its west and southwest. T.D. ATF-216, however, recognized some marine influence on the climate of the Paso Robles viticultural area from Pacific air moving up the Salinas River valley, thus justifying the Paso Robles viticultural area's inclusion within the marine-influenced Central Coast viticultural area. Overall, these topographic factors give the Paso Robles viticultural area a drier and warmer climate than the more marine-influenced regions to the west and south, but a wetter and cooler climate than regions with little or no marine influence further inland to the east.

The Paso Robles viticultural area's distinguishing climate is evidenced by its diurnal temperature change (from beginning to end of the day) of 40 to 50 degrees, its Winkler Region III climate of 3,001 to 3,500 growing degree days (GDDs) of heat accumulation,¹ and its average annual rainfall of 10 to 25 inches. Regions to the west and south are cooler and wetter, with diurnal temperature changes of 20 to 30 degrees, Winkler Region I climates, and average annual rainfall of up to 45 inches. Inland regions to the east of the Paso Robles viticultural area can have diurnal temperature changes of over 50 degrees, are warmer, with Region IV or V climates of over 3,500 GDDs of heat accumulation, and are semi-arid to arid in terms of precipitation. T.D. ATF-148 further states that the Paso Robles viticultural area is characterized by well-drained, alluvial soils in terrace deposits and elevations of 600 to 2,400 feet, with most vineyards planted at elevations between 800 and 1,000 feet. This contrasts with the more mountainous areas to the west and south and the flatter terrain of California's San Joaquin Valley to the east.

¹ As a measurement of heat accumulation during the grape-growing season, one degree day accumulates for each degree Fahrenheit that a day's mean temperature is above 50 degrees, which is the minimum temperature required for grapevine growth. In the Winkler climate classification system, heat accumulation as measured in growing degree days (GDDs) per year defines climatic regions. Climatic region I has less than 2,500 GDDs per year; region II, 2,501 to 3,000; region III, 3,001 to 3,500; region IV, 3,501 to 4,000; and region V, 4,001 or more. See Albert J. Winkler, General Viticulture (Berkeley: University of California Press, 1974), pages 61-64.

Geographical and Viticultural Diversity of the Paso Robles Viticultural Area

Dr. Deborah Elliott-Fisk, a professor at the University of California, Davis, and expert on the geography and terroir of California, provided a report on the distinguishing features of the Paso Robles viticultural area, which was incorporated into the PRAVAC petitions. In the report, Dr. Elliot-Fisk explains that the Paso Robles viticultural area includes a diversity of localized growing conditions, including differences in local climates, surface soils, and subsurface water availability throughout the area. Despite some general features that are shared with the larger Paso Robles viticultural area, these local variations in the physical geography and environment throughout the Paso Robles region create site-specific conditions for winegrapes, influencing the performance of grape rootstocks, clones, and yields, and affecting fruit characteristics. According to Dr. Elliott-Fisk, these diverse growing conditions effectively subdivide the Paso Robles viticultural area into more specifically distinctive grape growing regions.

The sections below provide a summary of the PRAVAC petitions' evidence concerning the varied geographical features throughout the Paso Robles viticultural area. Unless otherwise indicated, the information and data in the following sections regarding the Paso Robles viticultural area are from Dr. Elliot-Fisk's report.

Geology, Topography, and Soils

Elevations within the Paso Robles viticultural area range between 600 feet and 2,400 feet. Low mountain ranges bound the Paso Robles viticultural area on all sides. In the central part of the viticultural area, there is a tectonic basin that is deeply filled with both alluvial (deposited by water) and colluvial (deposited by landslides) sediments.

The San Andreas Fault Zone stretches southeast to northwest through the eastern portion of the Paso Robles viticultural area, according to the Geologic Map of California Series, San Luis Obispo Sheet (Charles W. Jennings, California Division of Mines and Geology, Sacramento, 1977). In the western portion of the viticultural area, a parallel zone of multiple fault lines runs through the South Coast Ranges at the base of the Santa Lucia Range. The Salinas River runs northward through the region, eventually emptying into Monterey Bay, outside the Paso Robles viticultural area. The movement of the faults, as well as the flowing and flooding of the Salinas River and its tributaries, has created a variety of landforms within the viticultural area, including alluvial fans, alluvial terraces, incised channels, old planation surfaces, landslide deposits, debris flows, and floodplains.

The United States Department of Agriculture's 1978 General Soil Map for the Paso Robles Area of San Luis Obispo County categorizes the 55 soil series in the Paso Robles region into floodplain, alluvial terrace, and hillside major mapping groups. The area's climate plays a role in the formation of these soils, as the balance of water determines whether minerals in the water are leached down through the soil profile or are deposited within the soil profile. Within these general groups, the soil series are diverse and vary widely in their formations and properties. The soil characteristics directly influence farming and agricultural production in the region. For example, the alkalinity and acidity levels of the soils throughout the Paso Robles region vary significantly, with some grassland soils (or Mollisols) having higher alkalinity levels and some woodland soils (or Alfisols) being more acidic.

Climate

A maritime influence characterizes the climate of the Paso Robles viticultural area, resulting in smaller monthly temperature ranges within the viticultural area than in regions further inland to the east. During summer and fall afternoons, sea breezes from Monterey Bay occasionally travel up the Salinas River valley into the Paso Robles region. The southwestern portion of the Paso Robles viticultural area lies along the crest and eastern slope of the Santa Lucia Range and marine air off the cool Pacific Ocean will spill west-to-east through a series of gaps in the crest of the Santa Lucia Range, creating sea breezes in the Paso Robles area. The frequency and duration of the sea breezes incrementally diminish inland, and the lessening of these marine influences affects the native vegetation and agricultural potential of the various areas of the Paso Robles region.

In addition to the cooling influence of the marine breezes, cold air drains off the mountain slopes of the Santa Lucia Range at night and into the Paso Robles viticultural area. This cold air drainage creates mountain breezes that lower early evening temperatures across the region, resulting in lower degree-day totals. This factor also varies throughout the Paso Robles viticultural area depending on the topography of specific regions within the viticultural area.

Overview of the 11 Proposed Viticultural Areas

The elevation, marine influence, and topography of the Paso Robles viticultural area create smaller-scale local climates, which form the basis for the proposed establishment of the 11 viticultural areas described in the PRAVAC petitions. These regional variations in temperature, precipitation, wind, cloud and fog cover, growing degree-days, and other climate variables distinguish each of the 11 proposed viticultural areas and are important factors for grape-growing in the region.

TTB notes that not all of the information provided in the PRAVAC petitions is discussed in this document. Only information directly relevant to determining the distinctiveness of the 11 proposed viticultural areas is discussed in the sections below. Each of the 11 petitions is available for viewing in its entirety as a supporting document within Docket No. TTB-2013-0009.

The following table provides a brief description of the most distinguishing features of each of the 11 proposed viticultural areas. The proposed viticultural areas are discussed in greater detail in the following sections. Unless otherwise noted, the information and data contained in the following sections are from the PRAVAC petition submitted for the respective proposed viticultural area.

Proposed viticultural area | Description
Adelaida District | High, rolling slopes; elevations from 900 to 2,200 feet; modest marine influence; average annual precipitation of 25 inches; transitional Winkler Region II-III climate.
Creston District | Old river terraces and mountain foothills; elevations from 1,000 to 2,000 feet; modest marine influence; average annual precipitation of 11.5 inches; Winkler Region II climate.
El Pomar District | High terraces, alluvial fans, and hills; elevations from 740 to 1,600 feet; primarily alkaline soils, pronounced marine influence; average annual precipitation of 15 inches; Winkler Region II climate.
Paso Robles Estrella District | Rolling hills; elevations from 745 to 1,819 feet; mild marine influence; average annual precipitation of 12.5 to 15.5 inches; moderate Winkler Region III climate.
Paso Robles Geneseo District | High hills and terraces; elevations between 740 and 1,300 feet; mostly acidic soils; modest marine influence; average annual rainfall of 13 to 14 inches; transitional Winkler Region III to IV climate.
Paso Robles Highlands District | Valley floor transitioning to mountain slopes; elevations between 1,160 to 2,086 feet; continental climate; average annual precipitation of 12 inches; low Winkler Region IV climate.
Paso Robles Willow Creek District | Mountainous terrain; strong marine influence; average annual rainfall of 24 to 30 inches; Winkler Region II climate; elevations from 960 to 1,900 feet.
San Juan Creek | Alluvial plains and terraces; elevations between 980 and 1,600 feet; strong continental influence; average annual rainfall of 10.4 inches; transitional Winkler Region III to IV climate.
San Miguel District | Alluvial fans and terraces; elevations from 580 to 1,600 feet; very mild marine influence; average annual rainfall of 11.4 inches; Winkler III climate.
Santa Margarita Ranch | Valley floor and hillsides; elevations from 900 to 1,400 feet; moderate marine influence; average annual rainfall of 29 inches; Winkler Region II climate.
Templeton Gap District | Broad terraces; elevations from 700 to 1,800 feet; very strong marine influence; average annual rainfall of 20 inches; Winkler Region II climate.

The following map shows the location of each of the 11 proposed viticultural areas within the larger Paso Robles viticultural area, as well as the location of the adjacent York Mountain viticultural area.

BILLING CODE 4810-31-P

BILLING CODE 4810-31-C

Adelaida District

The proposed 53,000-acre Adelaida District viticultural area is located in the westernmost portion of the Paso Robles viticultural area and contains approximately 1,300 acres of vineyards.

Name Evidence

The proposed “Adelaida District” name is based on both historical and modern connections of the name “Adelaida” to the region in which the proposed viticultural area is located. The “District” modifier in the proposed name is a reference to the surrounding, larger Paso Robles viticultural area.

The “Adelaida” or “Adelaida District” name historically has been used to geographically identify the area within the proposed Adelaida District viticultural area, and the “Adelaida” name was given to a local post office in 1877.² In addition, the Adelaida Mining District, established in the late 1800s, is located in the southwest corner of the proposed viticultural area; the Adelaida School was located in the area and remained open until 1964; and the Adelaida Cemetery District, formed in 1940, serves the local rural population. (Although some early references use the spelling “Adelaide,” “Adelaida” is the currently accepted spelling.)

² J. Fraser MacGillivray, History of Adelaida, California (1993), pages 33-35.

The small town of Adelaida and the Adelaida Cemetery, both founded in 1891, are located within the proposed Adelaida District viticultural area, as shown on the USGS Adelaida quadrangle map. According to a 2001 San Luis Obispo County map produced by the Automobile Club of Southern California, Adelaida Road extends westward from the city of Paso Robles into the proposed viticultural area. The “Adelaida” name is also used in connection with the Adelaida Planning Area, established by San Luis Obispo County as part of the county's land use plan. TTB notes that the boundary of the Adelaida Planning Area encompasses a larger area that includes the proposed Adelaida District viticultural area within it, as shown on the “Adelaida Rural Land Use Category Map.”

Boundary Evidence

The northern portion of the proposed Adelaida District viticultural area boundary follows intermittent streams, straight lines between elevation points, and roads. The proposed boundary meanders west to east through mountainous terrain and then descends alongside San Marcos Creek toward the Salinas River. A portion of the northeastern boundary of the proposed Adelaida District viticultural area is shared with the southern boundary of the proposed San Miguel District viticultural area.

The eastern portion of the proposed Adelaida District viticultural area boundary is based on the Salinas River and the western boundary of the city of Paso Robles. The proposed boundary separates the foothills and mountains of the proposed viticultural area from the near-flat, urbanized region to the east.

The southern portion of the proposed Adelaida District viticultural area boundary follows roads, an intermittent stream, a range line, and a straight line between map points from the western boundary of the city of Paso Robles to a rugged portion of the Santa Lucia Range. The southern boundary of the proposed viticultural area boundary is shared with a portion of the northern boundary of the established York Mountain viticultural area (27 CFR 9.80) and with the northern boundary of the proposed Paso Robles Willow Creek District viticultural area.

The western portion of the proposed Adelaida District viticultural area boundary follows a range line, which runs through the Santa Lucia Range in the area of the Las Tablas Creek watershed. The western portion of the proposed Adelaida District viticultural area boundary is shared with a segment of the Paso Robles viticultural area's western boundary.

Distinguishing Features

The distinguishing features of the proposed Adelaida District viticultural area include a modest marine influence, average annual precipitation of 25 inches, a transitional Winkler Region II-III climate, and high rolling slopes.

Climate

The marine influence on the climate in the proposed Adelaida District viticultural area is more modest than in areas to the west outside the proposed viticultural area because the crest of the Santa Lucia Range largely shields the proposed viticultural area from the Pacific Ocean. This high-elevation range, located to the west and southwest of the proposed viticultural area, rarely allows marine air, heavy fog, or strong sea breezes into the proposed viticultural area. The range also inhibits the inland path of the prevailing wet, winter storms off the Pacific Ocean. Although the range blocks most of these storms, the proposed Adelaida District viticultural area still receives about 25 inches of rain annually. The marine air that moves southward through the Salinas Valley from Monterey Bay typically is limited to altitudes below 1,000 feet and cannot reach the high elevations of the proposed viticultural area. The result is clear, fog-free days and cool nights in the proposed Adelaida District viticultural area, which result in a longer growing season and later harvest date than regions with more marine influence.

Although strong sea breezes usually do not reach the proposed Adelaida District viticultural area, light mountain and valley breezes result from warm air rising from lower elevations during the day and cool air sinking from the mountain peaks at night. These breezes help to moderate the daily temperature ranges within the proposed viticultural area and make high temperatures extremely rare. The annual heat summation of the proposed Adelaida District viticultural area averages about 3,000 growing degree day (GDD) units, which is a high Region II or a low Region III in the Winkler climate classification system.

Topography

The proposed Adelaida District viticultural area is generally a mountainous area with steep ridges, frequently oriented in a northwest-to-southeast direction. The mountainous topography is primarily a result of the faulting and uplift of the South Coast Ranges, particularly the Santa Lucia Range. Elevations range from approximately 900 feet to approximately 2,200 feet, although most area vineyards are planted at elevations of 1,000 to 1,800 feet. At night, cool air drains off these high, steep ridges into the lower, flatter regions outside the proposed viticultural area. Because of the cool air drainage, frost is not a common occurrence within the proposed viticultural area.

Soils

The soils of the proposed Adelaida District viticultural area are hillside residual soils, which generally have shallow rooting depths and a relatively high water-holding capacity, but are also well-drained by the subsurface weathered bedrock. The primary parent material of the soils of the proposed viticultural area is the Monterey Formation, which is comprised of sedimentary shales, mudstones, and sandstones.

Soil textures within the proposed Adelaida District viticultural area are predominantly silty clay loam and clay loam, with some gravelly units. The soils are generally moderately developed Mollisols where surface humus is abundant, Alfisols where more leaching to depth has occurred, and Vertisols where pedogenic clay dominates the texture. The soils are slightly alkaline, with a surface horizon pH of between 7.4 and 8.4 and have low-to-moderate nutrient levels. The modest rooting depths, nutrient levels, and water-holding capacity of the soils promote a moderate amount of stress on grapevines, and low vineyard yields are common within the proposed Adelaida District viticultural area.

Comparison to Adjacent Regions

The following chart summarizes the distinguishing features of the proposed Adelaida District viticultural area and compares those features to those of the adjacent proposed viticultural areas. In addition, the proposed Adelaida District viticultural area is immediately adjacent to, and would share its southern-most boundary with a portion of, the York Mountain viticultural area's northern boundary. The York Mountain viticultural area is distinguishable from the proposed viticultural area because it contains lower elevations on the slopes of the Santa Lucia Range, has a cooler maritime Winkler Region I climate, and receives an average of 45 inches of annual rainfall.

TTB notes that the region to the north of the proposed viticultural area is within the Paso Robles viticultural area, but it is not included in any of the viticultural areas proposed in this document. This area is distinguishable from the proposed Adelaida District viticultural area based on its generally lower elevations and flatter terrain. In addition, a large portion of this region is unavailable for commercial viticulture because it is part of the Camp Roberts Military Reservation. The area immediately to the west that is not within either the Paso Robles viticultural area or the York Mountain viticultural area contains the rugged, mountainous terrain of the Santa Lucia Range.

Comparison of Proposed Adelaida District Viticultural Area to Adjacent Proposed Viticultural Areas
Distinguishing features | Adelaida district | To the north: San Miguel District | To the east: Paso Robles Estrella District | To the south: Paso Robles Willow Creek District
Winkler Region | Transitional Region II-III | Warm Region III | Moderate Region III | Region II
Maritime Climate * | 6 | 7 | 5 | 1
Precipitation | 25 inches/year | 11.4 inches/year | 12.5-15.5 inches/year | 24-30 inches/year
Topography | Santa Lucia Range high mountain slopes grading to base of foothills; elevation approximately 900-2,200 feet (most vineyards at 1,100-1,800 feet) | Santa Lucia Range footslope into Salinas and Estrella River valleys; alluvial fans and well-defined river terraces; elevation 580-1,600 feet (most vineyards at 640-800 feet) | Rolling plains of Estrella River valley and terraces; elevation approximately 745-1,819 feet (most vineyards at 750-1,000 feet) | Mountain slopes of Santa Lucia Range to the west of the Salinas River, centered on the Willow Creek tributary to Paso Robles Creek; elevation 960-1,900 (most vineyards at 1,000-1,300 feet).
Soils | Shallow, well-drained, residual soils with silty and clay loam textures; moderately alkaline | Deep alluvial soils, with clay, sandy, and gravelly loam textures | Deep to moderate depth alluvial terrace soils, with sandy to coarse and clay loam textures; slightly acidic, but more alkaline at depth | Mostly shallow calcareous soils of residual (bedrock) origin with shaly clays, clay loams, and rocky loams, with some units gravelly and with patches of alluvial soil along streams; alkaline at depth
* Maritime climate indicated on scale from 1 (most maritime) to 8 (more continental).

Creston District

The proposed 47,000-acre Creston District viticultural area is located in the south-central portion of the Paso Robles viticultural area and contains approximately 1,400 acres of vineyards.

Name Evidence

The “Creston District” name is based on its historical and modern association with the region. The “District” modifier indicates that the proposed Creston District viticultural area is a sub-region of the larger Paso Robles viticultural area. “Creston” and “Creston District” have been used historically to identify the small rural community, school district, community services district, electoral precinct, and groundwater planning area of San Luis Obispo County contained within the proposed Creston District viticultural area.

The town of Creston, originally named “Huerhuero” after a land grant in the area, was founded in 1884. The town name eventually was changed to “Creston” in honor of a founding father of the area, C.J. Cressey.³

³ Linnea Waltz, “And just where is Huer Huero?” San Luis Obispo County Telegram-Tribune, October 5, 1974, page 8.

According to an 1890 San Luis Obispo county map based on government and county surveys, the “Creston” name also identifies the larger region within the proposed Creston District viticultural area. A 1913 San Luis Obispo County Surveyor map shows Creston voting precinct. In addition, historical references to the “Creston District” are contained in the “History of San Luis Obispo County” by Morrison and Haydon, which was published in 1917 and reprinted in 2002 as the “Pioneers of San Luis Obispo County and Environs,” and which includes, for example, the biography of John D. Biggs, who “* * * engaged in farming in the Creston district.” The first school district named “Creston District” was formed in 1885, and, in 1923, several rural school districts merged to form the Creston Elementary School District, according to the “History of Creston Elementary School” (see http://www.atas.k12.ca.us/AUSD/creston/schoolhistory.html).

Today, Creston continues to be a well-known community and region of San Luis Obispo County. The USGS Creston Quadrangle map identifies the small town of Creston within the historical Huerhuero Land Grant, and a 2001 map published by the Automobile Club of Southern California (California Regional Series, San Luis Obispo County map) identifies the small town of Creston to the southeast of the city of Paso Robles. Multiple local businesses located in the proposed Creston District viticultural area use “Creston” in their names, including Creston Valley Meats, Creston Valley Quilt Ranch, Creston Farms, and the Creston Volunteer Firefighters (which are no longer active, but which served an area that closely approximates the boundaries of the proposed Creston District viticultural area).

Boundary Evidence

According to the proposed boundary description and USGS maps, the northern portion of the proposed Creston District viticultural area boundary uses a road and straight lines to connect map points across a series of foothills and rugged mountain terrain. The proposed boundary in this area separates the rugged terrain of the proposed Creston District viticultural area from the rolling hills and lower elevations in the region to the north, which is within the larger Paso Robles viticultural area but not within any of the other viticultural areas proposed in this document.

The eastern portion of the proposed Creston District viticultural area boundary includes portions of Indian Creek, roads, and a straight line. TTB notes that the proposed Creston District viticultural area shares the eastern portion of its boundary with most of the western portion of the proposed Paso Robles Highlands District viticultural area boundary.

The southern portion of the proposed boundary shares part of the southern portion of the Paso Robles viticultural area boundary, which is also concurrent with part of the northern Los Padres National Forest boundary. The land to the south of the proposed Creston District viticultural area is increasingly steep and rugged, especially in the Los Padres National Forest, as the terrain ascends into the La Panza Range.

The western portion of the proposed boundary follows the Huerhuero Land Grant line, other lines that closely follow the land grant, and the Middle Branch of the Huerhuero Creek. The terrain is more mountainous to the southwest of the proposed Creston District viticultural area; to the northwest, the terrain tends to be more gentle and flat. The proposed El Pomar District and Paso Robles Geneseo District viticultural areas share sections of the northwest portion of the proposed Creston District viticultural area boundary.

Distinguishing Features

The distinguishing features of the proposed Creston District viticultural area include a modest marine influence, an annual average of 11.5 inches of precipitation, and a Winkler Region III climate. Old river terraces and mountain foothills dominate the landscape, and elevations vary between approximately 1,000 to 2,000 feet, increasing from north to south.

Climate

The climate of the proposed Creston District viticultural area is influenced by its location east of the Templeton Gap and Santa Lucia Coast Range and south of the La Panza Range. Sea breezes that blow inland off the Pacific Ocean and through the Templeton Gap passes in the Santa Lucia Range reach the proposed Creston District viticultural area during the day, and cold air draining off the La Panza Range travels down Huerhuero Creek and into the proposed viticultural area in the evenings. In addition, cooling marine air from Morro Bay to the south occasionally penetrates into the proposed Creston District viticultural area. The moderating effect of the cold air drainage and the sea breezes places the temperature of the proposed Creston District viticultural area into the low-to-moderate Region III category under the Winkler GDD system.

The proposed Creston District viticultural area also is located in the rain shadows of the La Panza Range and the Santa Lucia Range. As a result, precipitation is low within the proposed viticultural area, averaging 11.5 inches annually. Although the annual precipitation amounts are low, there is abundant groundwater and near-surface water along Huerhuero Creek for irrigating vineyards.

Topography

The landscape of the proposed Creston District viticultural area is an intermediate-to-high elevation area of old river terraces and mountain foothills at the base of the La Panza Range. Huerhuero Creek bisects the proposed viticultural area as it travels northwestward from the proposed viticultural area through other parts of the Paso Robles viticultural area until it eventually joins the Salinas River. The East Branch and Middle Branch of the Huerhuero Creek flow through foothills and terraces, forming narrow valleys with loamy soils and near-surface water and springs. These creeks also serve as a conduit for cold air draining at night from the higher slopes of the La Panza Range into the proposed viticultural area.

Elevations of the proposed Creston District viticultural area range from approximately 1,000 feet along Huerhuero Creek to approximately 2,000 feet along the southern portion of the proposed boundary. To the south of the proposed Creston District viticultural area, the rugged mountain terrain increases to 3,622 feet in elevation at the pinnacle of Black Mountain, according to USGS maps. Vineyards in the proposed Creston District viticultural area are mostly planted at elevations of 1,000 feet to 1,300 feet, with a few vineyards located on higher bedrock hills up to 1,800 feet. Many vineyards are located on west and southwest facing slopes to take advantage of the summer marine breezes that travel through the Templeton Gap area and into the proposed Creston District viticultural area.

Soils

The parent materials of the soils of the proposed Creston District viticultural area are granitic rocks, non-marine sandstones, marine Monterey shales and sandstones, and the Paso Robles Formation. Over time, Huerhuero Creek has transported mixed sediments of granitic boulders, cobbles, finer gravels and sands, shales, sandstone fragments, and silts from the La Panza Range into the proposed viticultural area. The granitics are high in silica, and the Monterey Formation shales and fine sandstones are high in calcium carbonate in some places. As the rock fragments weather and are dissolved in water, the resulting materials cause cementation of the sediments and soils, decreasing the soil's water-holding capacity and rooting depths for plants, including grapevines. The true loams to sandy loams in the area have a higher percentage of granitic coarse sands and gravels, allowing for deeper rooting depths and better drainage. Most of the soils are slightly acidic at the surface and more alkaline at depths below the surface.

Soil textures in the proposed Creston District viticultural area are predominantly fine sandy loams to sandy loams along the creeks, to gravelly sandy loams to clay loams on the terraces. The most common soil order in the area is the moderately developed grassland Mollisols, followed by younger, poorly developed Inceptisols and Entisols along the creeks, the occasional older Alfisols on higher hillsides, and heavy clay Vertisols in some low-lying spots. Area soils are considered moderately fertile.

Comparison to Adjacent Regions

The following chart summarizes the distinguishing features of the proposed Creston District viticultural area and compares those features to those of the adjacent proposed viticultural areas. The regions to the north and southwest of the proposed Creston District viticultural area are within the Paso Robles viticultural area but are not included in any of the viticultural areas proposed in this document. The area to the north is distinguishable from the proposed Creston District viticultural area due to its highly eroded terrain, shallow soils, and steep slopes, which contribute to slope instability and a high erosion hazard. The region to the southwest is more mountainous and rugged; further west is the city of Atascadero. The area to the south is located outside of the Paso Robles viticultural area and contains rugged terrain with higher elevations than those of the proposed Creston District viticultural area.

Comparison of Proposed Creston District Viticultural Area to Adjacent Proposed Viticultural Areas
Distinguishing features | Creston district | To the east: Paso Robles Highlands District | To the northwest: El Pomar District | To the Northwest: Paso Robles Geneseo District
Winkler Region | Low-Moderate Region III | Low Region IV | Moderate Region II | Transitional Regions III-IV
Maritime Climate * | 4 | 8 | 3 | 7
Precipitation | 11.5 inches/year | 12 inches/year | 15 inches/year | 13-14 inches/year
Topography | Old erosional plateau at base of La Panza Range; alluvial terraces and fans of Huerhuero Creek; elevation approximately 1,000-2,000 feet (most vineyards at 1,030-1,300 feet) | Transitional area from valley floor to mountain slope; elevation 1,160-2,086 feet (most vineyards at 1,200-1,600 feet) | High, older terraces, fans, and hills; elevation 740-1,600 feet (most vineyards at 840-960 feet) | Upfaulted hills through old river terraces; terraces; elevation 740-1,300 feet (most vineyards at 880-1,200 feet).
Soils | Terrace alluvial and some residual soils, with fine sandy to gravelly and clay loam textures; slightly acidic at surface, more alkaline at depth | Deep alluvial soils, with sandy to coarse and clay loam textures, mostly alkaline at depth | Terrace alluvial soils, with sandy, clay, and gravelly loam textures; primarily alkaline | Well-developed moderate depth residual and alluvial soils, with silty clays and silty clay loam textures; pH varied, but mostly acidic.
* Maritime climate indicated on scale from 1 (most maritime) to 8 (more continental).

El Pomar District

The proposed 21,300-acre El Pomar District viticultural area is located in the central portion of the Paso Robles viticultural area and includes 2,000 acres of vineyards.

Name Evidence

The “El Pomar District” name is based on its historical and modern connection with the region. The name originally dates back to the early 1900s, and it continues to be widely used by local residents, realtors, wineries, grape growers, and others.

The names “El Pomar” and “El Pomar District,” derived from the Spanish word for “orchard,” refer to an unincorporated agricultural area within the larger Paso Robles viticultural area. The El Pomar District is generally defined as “[a]n area between Templeton and Creston noted for its fruit and almond growing . . .” ⁴ TTB notes that the proposed El Pomar District viticultural area is located between the towns of Templeton and Creston.

⁴ Mark P. Hall-Patton, Memories of the Land, Placenames of San Luis Obispo County (San Luis Obispo: EZ Nature Books, 1994), page 52.

An undated local history book, The End of the Line, Recollections and a History of Templeton, compiled by Al Willhoit, dedicates a full chapter to El Pomar and explains that the area gained its name recognition as “El Pomar” in 1917. The Willhoit book includes family histories by former and current residents of the area, many of whom refer to it as the “El Pomar District” or the “El Pomar area.” According to a 1926 newspaper article, the El Pomar District was first subdivided into separate lots in 1886, and early settlers planted orchards in the area shortly thereafter.⁵

⁵ “El Pomar: Where Contented Ranchers Have Built Happy Homes—Almonds Lead Grain, Cattle, And Vineyards,” Paso Robles Press, May 30, 1926, page 7.

El Pomar Drive and South El Pomar Road run through the approximate middle of the proposed El Pomar District viticultural area, and a San Luis Obispo County Web site contains a map (included with the petition) that identifies El Pomar Drive and South El Pomar Road in the proposed El Pomar District viticultural area. The “El Pomar Area” is also a recognized region on the 1986 voting precinct map for San Luis Obispo County and is located in the same general area as the proposed El Pomar District viticultural area. The petition also notes that two of the vineyards within the proposed viticultural area are named El Pomar Vineyards and Pomar Junction Vineyards.

Boundary Evidence

The proposed boundary of the viticultural area corresponds with the historical references to the El Pomar area. According to the Willhoit book, the Santa Ysabel Land Grant and the subdivision of Eureka Rancho, both of which are generally located within the proposed viticultural area, have historically been associated with the proposed El Pomar District viticultural area. As noted in the Willhoit book, “[t]he area to become the El Pomar District lies within the Santa Ysabel, part of the tract known as the Eureka Rancho, being a portion of the subdivisions of Rancho La Asuncion.” An undated San Luis Obispo County map submitted with the petition shows that the Santa Ysabel Land Grant boundary generally corresponds with the proposed El Pomar District viticultural area boundary. In addition, in 1999, Milene Radford, a longtime San Luis Obispo County resident, drew a map of the El Pomar District that includes the entire proposed El Pomar District viticultural area for the Pioneer Pages, an annual publication produced by the El Paso de Robles Area Pioneer Museum.

The eastern portion of the proposed boundary follows a series of roads and hills and separates the proposed El Pomar District viticultural area from the higher elevations to the east. A portion of the eastern boundary is shared with a portion of the western boundary of the proposed Creston District viticultural area.

The southern portion of the proposed El Pomar District viticultural area boundary uses a series of roads in the foothills of the La Panza Range that follow approximately the exposed granitic rocks and growths of dense chaparral and forest vegetation in the area. The region to the south of the proposed viticultural area is within the Paso Robles viticultural area but not within any of the other viticultural areas proposed in this document.

The western portion of the proposed El Pomar District viticultural area boundary follows a series of peaks and roads that approximate the Rinconada Fault and define the western geological and topographical boundary of the area. In addition, a line of hills that rise 400 to 500 feet above the fault line visually defines the western portion of the proposed El Pomar District boundary. A portion of the western boundary is shared with the eastern boundary of the proposed Templeton Gap District viticultural area.

At TTB's request, the proposed El Pomar District viticultural area's northwestern corner was adjusted westward in order to follow a road and other more easily located features rather than the now hard-to-locate former city limit line of Paso Robles. The northern portion of the proposed El Pomar District viticultural area boundary then extends to the ridgeline of the Huerhuero Hills area, an uplifted area along the La Panza-Huerhuero Fault. This ridgeline, which is located along the northeastern portion of the proposed boundary, serves as a partial barrier to marine air flowing eastward from the Pacific Ocean. To the north of the proposed boundary is the proposed Paso Robles Geneseo District viticultural area, and the urbanized area of the city of Paso Robles is to the northwest.

Distinguishing Features

The distinguishing features of the proposed El Pomar District viticultural area include a pronounced marine influence, an annual average of 15 inches of precipitation, and a moderate Winkler Region II climate. High, older terraces, alluvial fans, and hills dominate the landscape, and elevations vary between 740 and 1,600 feet.

Climate

The proposed El Pomar District viticultural area is located several miles to the east and on the lee, or rain shadow, side of the Santa Lucia Range crest, which blocks much of the moisture and storms that move in from the Pacific Ocean, and precipitation in the proposed area averages 15 inches annually. However, the proposed viticultural area does receive significant marine air incursion, fog, and sea breezes through the Templeton Gap, which is located in the Santa Lucia Range to the proposed area's west. The hillsides and hilltop vineyards within the proposed El Pomar District viticultural area are exposed to the cooling marine air during the growing season. Due to the cooling sea breezes and fog, the proposed El Pomar District viticultural area has a relatively cool Winkler Region II growing season climate, averaging 2,950 GDD units annually.

Topography

The proposed El Pomar District viticultural area sits at the base of the La Panza Range's foothills, and old river terraces and alluvial fans on intermediate elevations dominate the landscape. The terraces and hills are underlain by granitic rocks, sandstones of the Simmler Formation, and shales of the Monterey Formation, with the Paso Robles Formation at or near the surface where the overlying sediments have been eroded. Elevations rise gradually to the south, beginning at approximately 740 feet on nearly flat land around the Salinas River, southeast of the city of Paso Robles, and increasing to a peak of 1,600 feet in the southern portion of the proposed viticultural area. Vineyard elevations in the proposed viticultural area generally vary from 840 feet to 960 feet, with a few vineyards located at 1,440 feet on the higher hills. Although cold air drains northward off the higher slopes of the La Panza Range and into the proposed viticultural area at night, its general topography of rolling hills and terraces makes frost and cold air ponding rare.

Soils

The parent materials of soils within the proposed El Pomar District viticultural area are granitic rock, sandstones of the Simmler Formation, shales of the Monterey Formation, and the Paso Robles Formation. Many of these soils have calcareous shale fragments, with secondary lime deposited within the soil profiles. The most common soil series within the proposed viticultural area are from the Linne-Calodo series and are mostly alkaline. Soil textures in the proposed El Pomar District viticultural area include clay loams and sandy loams, with many gravelly units. The most common soil order is the moderately developed grassland Mollisols, followed by younger, poorly developed Inceptisols and Entisols along the creeks. The soils have shallow to moderate rooting depths, modest nutrient levels, and low to moderate water holding capacity, which create low to moderate vigor vineyard sites.

Comparison to Adjacent Regions

The following chart summarizes the distinguishing features of the proposed El Pomar District viticultural area and compares those features to those of the adjacent proposed viticultural areas. TTB notes that there are no proposed viticultural areas located directly to the south of the proposed El Pomar District. The region to the south contrasts to the proposed El Pomar District viticultural area due to the urban area of Atascadero to the southwest and the more rugged, mountainous terrain to the southeast. In addition, there is no proposed viticultural area to the northwest of the proposed viticultural area since this region is within the urbanized area of the city of Paso Robles.

Comparison of Proposed El Pomar District Viticultural Area to Adjacent Proposed Viticultural Areas
Distinguishing features | El Pomar District | To the west: Templeton Gap District | To the east: Creston District | To the north: Paso Robles Geneseo District
Winkler Region | Moderate Region II | Region II | Low-to-Moderate Region III | Transitional Regions III-IV.
Maritime Climate * | 3 | 1 | 4 | 7.
Precipitation | 15 inches/year | 20 inches/year | 11.5 inches/year | 13-14 inches/year.
Topography | High, older terraces, fans, and hills; elevation 740-1,600 feet (most vineyards at 840-960 feet) | Broad terraces in moderate to low elevation area of the Santa Lucia Range with elevations ranging from 700 feet to 1,800 feet (most vineyards at 800-940 feet) | Old erosional plateau at base of La Panza Range; alluvial terraces and fans of Huerhuero Creek; elevation approximately 1,000-2,000 feet (most vineyards at 1,030-1,300 feet) | Upfaulted hills through old river terraces; elevation 740-1,300 feet (most vineyards at 880-1,200 feet).
Soils | Terrace alluvial soils, with sandy, clay, and gravelly loam textures; primarily alkaline | Moderate depth, partially cemented alluvial soils on river terraces and sections of older alluvial fans with silt loams, silty clays, clay loams, and sandy loams (with some units gravelly); some with slightly acidic topsoils and others neutral to slightly alkaline at surface (all alkaline at depth) | Terrace alluvial and some residual soils, with fine sandy to gravelly and clay loam textures; slightly acidic at surface, more alkaline at depth | Well-developed moderate depth residual and alluvial soils, with silty clays and silty clay loam textures; pH varied, but mostly acidic.
* Maritime climate indicated on scale from 1 (most maritime) to 8 (more continental).

Paso Robles Estrella District

The proposed 66,900-acre Paso Robles Estrella District viticultural area is located in the north-central portion of the Paso Robles viticultural area, northeast of the city of Paso Robles, and it contains approximately 8,500 acres of vineyards.

Name Evidence

In the history of San Luis Obispo County, the word “Estrella” has been used for the names of the La Estrella Mexican land grant, a small rural community, school district, cemetery district, electoral district, and county planning area, all of which are in the same region as the proposed Paso Robles Estrella District viticultural area.

The name “Estrella” is the Spanish word for “star” and was used in the 1800s to describe a location in the proposed viticultural area along the Estrella River where four valleys come together, topographically resembling the rays of a star. The first recorded use of the term “Estrella” in connection with the larger Paso Robles region appears on a drawing of the Diseño of Mission San Miguel (circa 1846), which shows the Estrella area to the east and northeast of the current city of Paso Robles, roughly in the same location as the proposed viticultural area.

Maps of early San Luis Obispo County also use the name “Estrella” to identify a school district and voting precinct within the same region as the proposed viticultural area. For example, an 1874 San Luis Obispo County map shows the “Estrella School District,” and the 1913 San Luis Obispo County map shows the “Estrella Precinct.” Letters from four residents of the Paso Robles area that accompanied the petition state that the full name “Paso Robles Estrella District” was used to refer to the historical school district that served the old town of Estrella and the surrounding rural area on either side of the Estrella River. In addition, the Estrella Army Air Force Base was located in the region during World War II until it was decommissioned in late October 1944.

The “Estrella” name currently applies to numerous geographic and cultural features within the proposed Paso Robles Estrella District viticultural area. The most prominent geographical feature in the region is the Estrella River (indicated on the Estrella, Paso Robles, and Shandon USGS quadrangle maps), and Estrella Road generally follows the path of the river. According to the petition, “Estrella” also is used to refer to the rural area on both sides of the Estrella River. In addition, the name “Estrella” refers to a small unincorporated township within the Estrella electoral precinct of San Luis Obispo County, which is shown on the Estrella USGS quadrangle map. There is also a 1,481-foot peak named “Estrella,” shown on the Shandon USGS quadrangle map, along the eastern portion of the proposed viticultural area boundary.

In addition, the “Estrella” name has been used in conjunction with viticulture within the proposed viticultural area. Some Paso Robles wineries with vineyards in the proposed Paso Robles Estrella District viticultural area have described their vineyards as located on the “Estrella bench” or “Estrella hills” in marketing materials, and two vineyards and a winery located within the proposed viticultural area include the word “Estrella” in their names.

Boundary Evidence

The proposed Paso Robles Estrella District viticultural area is located in the north-central portion of the Paso Robles viticultural area, northeast of the city of Paso Robles. The proposed boundary is shaped roughly like a triangle, with its top pointed at the San Luis Obispo-Monterey County line. The location of the proposed viticultural area is in the same general region as the 1844 La Estrella Land Grant, which was made by the Mexican governor to the Native Americans of Mission San Miguel.

The northern portion of the boundary of the proposed Paso Robles Estrella District viticultural area follows a segment of the shared San Luis Obispo County and Monterey County boundary, which is also part of the northern portion of the Paso Robles viticultural area boundary. Beyond the northern boundary are steep canyons, which contrast with the valleys and terraces of the proposed viticultural area.

The northeastern portion of the proposed boundary extends diagonally southeast from the San Luis Obispo County line at Ranchito Canyon to Shedd Canyon on the Estrella River, following straight lines between peaks in the Temblor Range that roughly separate the proposed viticultural area from the steeper and more arid terrain to the east, which is not included in any of the proposed viticultural areas described in this document. The southeastern portion of the proposed boundary follows an intermittent stream in Shedd Canyon to a section line that is used to define part of the proposed viticultural area's southern boundary. The southeastern portion of the boundary of the proposed Paso Robles Estrella District viticultural area is shared with the northwestern portion of the boundary of the proposed San Juan Creek viticultural area.

The southern portion of the proposed boundary follows a series of section lines, roads, and straight lines connecting marked map points. A portion of the southern boundary of the proposed viticultural area is shared with the northern boundary of the proposed Paso Robles Geneseo District viticultural area. The proposed boundary in this area follows changes in topography, separating the lower, newer terraces of the Estrella River to the north from the higher, older terraces to the south in the proposed Paso Robles Geneseo District viticultural area. In the areas where the southern portion of the boundary of the proposed Paso Robles Estrella District viticultural area is not shared with the proposed Paso Robles Geneseo District viticultural area boundary, the boundary separates the proposed Paso Robles Estrella District viticultural area from the more arid, steeper terrain to the southeast and the urban area of the city of Paso Robles to the southwest.

Most of the southwestern portion of the proposed boundary is shared with the eastern portion of the boundary of the proposed Adelaida District viticultural area. The Salinas River divides the generally flatter and lower landscape of the proposed Paso Robles Estrella District viticultural area from the northern part of the city of Paso Robles and a large region of rugged terrain with increasing elevations in the proposed Adelaida District viticultural area.

The northwestern portion of the proposed Paso Robles Estrella District viticultural area boundary is shared with the eastern portion of the proposed San Miguel District viticultural area boundary. This portion of the proposed boundary includes a straight east-west line between the Salinas River and the Estrella River, which eventually joins with the San Jacinto Creek, and then follows San Jacinto Creek northeasterly through the escalating Lowes Canyon to the San Luis Obispo County line. San Jacinto Creek separates the rolling plains, river terraces, benches, and hills of the proposed Paso Robles Estrella District from the alluvial fans and well-defined terraces of the landscape of the proposed San Miguel District viticultural area.

Distinguishing Features

The Paso Robles Estrella District viticultural area is distinguished from the surrounding areas based on its mild marine influence, its average of 12.5 to 15.5 inches of annual precipitation (depending on elevation), a moderate Winkler Region III climate, and its rolling terrain with elevations ranging from 745 to 1,819 feet.

Climate

Growing season temperatures in the proposed Paso Robles Estrella District viticultural area are generally warmer than those of the more western grape-growing regions within the Paso Robles viticultural area, but are generally cooler than those of the eastern and southern regions of the Paso Robles viticultural area. The proposed viticultural area has a moderate Winkler Region III climate, with approximately 3,300 GDD units. The petition notes that moderate Region III climates are well suited for growing a number of Bordeaux varieties of winegrapes, including cabernet sauvignon, as well as Rhone varieties like syrah.

During the growing season, sea breezes occur when the land surface is warmer than the waters of the Pacific Ocean, creating a vacuum to draw the cooling breezes through the gaps in the crest of the Santa Lucia Range and into the proposed viticultural area. In addition, sea breezes occasionally travel south from Monterey Bay via the Salinas River valley to the proposed viticultural area. The proposed viticultural area's temperatures are also influenced by night-time cold air drainage from the higher slopes of the surrounding Santa Lucia Range, Temblor Range, and Huerhuero Hills; this cold air drainage occasionally results in early morning fog within the proposed viticultural area during the summer.

The Santa Lucia Range, located between the Pacific Ocean and the Paso Robles area, creates a rain shadow effect for the proposed viticultural area, with lesser shadow effects occurring from the La Panza Range to the south and the Temblor Range to the northeast. Precipitation in the proposed Paso Robles Estrella District viticultural area varies between 12.5 and 15.5 inches annually, with the majority of precipitation occurring during the winter.

Topography

Elevations within the proposed Paso Robles Estrella District viticultural area vary from 745 to 1,819 feet. A series of northeast-to-southwest canyons with intermittent streams and long, narrow valley floors dominate much of the northern and eastern terrain, with elevations ranging from 1,100 to 1,600 feet. Elevations within the proposed viticultural area gradually decrease to the west and south as the terrain transitions to floodplains, terraces, benches, and gently rolling hills preserved from old river deposits at elevations generally between 700 and 1,000 feet. Vineyard elevations generally vary from 750 to 1,000 feet, with some higher vineyards located north of the Estrella River at elevations of up to 1,400 feet in the Temblor Range. The valley fill of the proposed Paso Robles Estrella District viticultural area is deep and supports the Paso Robles groundwater basin, fed by runoff from the surrounding mountain slopes and the Estrella River. The deep groundwater basin provides abundant water for irrigation within the proposed viticultural area.

The geographical location of the Estrella River valley and the surrounding topography combine to create a distinctive climate within the proposed Paso Robles Estrella District viticultural area. Maritime sea breezes enter the region through the Templeton Gap and other low spots in the crest of the Santa Lucia Range to the west; occasional sea breezes flowing from Monterey Bay southward along the Salinas River valley also provide marine influences. As a result, the Estrella River watershed incurs year-round winds, predominantly from the west, that blow through its connecting valleys and canyons. In addition, the topography within the proposed Paso Robles Estrella District viticultural area causes cold air to drain from higher elevations downward to the Estrella River, and this cold air drainage can cause early morning fog in the summer.

Soils

The soil textures of the proposed Paso Robles Estrella District viticultural area are predominantly sandy loams along the creeks and gravelly sandy loams and clay loams above on the poorly consolidated Paso Robles Formation of the river terraces and hillsides. The most common soil orders of the proposed Paso Robles Estrella District viticultural area are the well developed and older Alfisols on higher terraces and the moderately developed grassland Mollisols, followed by younger, poorly developed Inceptisols and Entisols along the creeks and on some hillsides, and heavy clay Vertisols on some old terraces.

The soils of the proposed Paso Robles Estrella District viticultural area have low to modest values of major plant nutrients, moderate soil rooting depths, moderate water stress, and have low to moderate fertility. The combination of the region's climate with its deep alluvial, mostly terrace soils (some of which are partially cemented by clays, iron, silicates and carbonates) creates moderate vigor vineyards. Soils are generally well-drained near the surface, but with varying water-holding capacity as texture and structure changes to depth in the profile, and from the younger to older geomorphic surfaces. Most of the soils are slightly acidic at the surface (with pH values of 6.0 to 7.1) and more alkaline at depth (with pH values of 7.2 to 8.3).

Comparison to Adjacent Regions

The following chart summarizes the distinguishing features of the proposed Paso Robles Estrella District viticultural area and compares those features to those of the adjacent proposed viticultural areas. TTB notes that there are no proposed viticultural areas located immediately to the east and in certain areas to the south of the proposed Paso Robles Estrella District viticultural area. The region to the east of the proposed Paso Robles Estrella District viticultural area contains steep, arid terrain that contrasts with the more moderate terrain and ample precipitation of the proposed viticultural area. The region to the southeast of the proposed Paso Robles Estrella District viticultural area that is not included in another proposed viticultural area contains highly eroded terrain, shallow soils, and steep slopes, which contribute to slope instability and a high erosion hazard. The region to the southwest that is not included in another proposed viticultural area contains the urban area of the city of Paso Robles.

In addition, there are no established or proposed viticultural areas directly to the north of the proposed Paso Robles Estrella District viticultural area, which is outside of the existing Paso Robles viticultural area in Monterey County. That region contains steep canyons, which contrast to the valleys and terraces of the proposed viticultural area, and is part of the Cholame Hills and Temblor Range.

Comparison of Proposed Paso Robles Estrella District Viticultural Area to Adjacent Proposed Viticultural Areas
Distinguishing features | Paso Robles Estrella District | To the northwest: San Miguel District | To the southwest: Adelaida District | To the south: Paso Robles Geneseo District | To the southeast: San Juan Creek
Winkler Region | Moderate Region III | Warm Region III | Transitional Regions II-III | Transitional Regions III-IV | Transitional Regions III to Low IV.
Maritime Climate* | 5 | 7 | 6 | 7 | 8.
Precipitation | 12.5-15.5 inches/year | 11.4 inches/year | 25 inches/year | 13-14 inches/year | 10.4 inches/year.
Topography | Rolling plains of Estrella River valley and terraces; elevation 745-1,819 feet (most vineyards at 750-1,000 feet) | Santa Lucia Range footslope into Salinas and Estrella River valleys; alluvial fans and well-defined river terraces; elevation 580-1,600 feet (most vineyards at 640-800 feet) | Santa Lucia Range high mountain slopes grading to base of foothills; elevation approximately 900-2,200 feet (most vineyards at 1,100-1,800 feet) | Upfaulted hills through old river terraces; elevation 740-1,300 feet (most vineyards at 880-1,200 feet) | River valleys with alluvial plains and terraces; elevation approximately 980-1,600 (most vineyards at 1,000-1,280 feet).
Soils | Deep to moderate depth alluvial terrace soils, with sandy to coarse and clay loam textures; slightly acidic, but more alkaline at depth | Deep alluvial soils, with clay, sandy, and gravelly loam textures | Shallow, well-drained, residual soils with silty and clay loam textures; moderately alkaline | Well-developed moderate depth residual and alluvial soils, with silty clays and silty clay loam textures; pH varied, but mostly acidic | Well to moderately drained, deep alluvial soils, with great variety of loamy sands to gravelly and sandy clay loam textures; alkaline at depth (and occasionally at the surface).
* Maritime climate indicated on scale from 1 (most maritime) to 8 (more continental).

Paso Robles Geneseo District

The proposed 17,300-acre Paso Robles Geneseo District viticultural area has approximately 3,000 acres of vineyards and is located roughly in the center of the larger Paso Robles viticultural area.

Name Evidence

The “Paso Robles Geneseo District” name is based on the extensive historical and current use of the “Geneseo District” name in San Luis Obispo County. In the early 1880s, German settlers emigrating from Geneseo, Illinois, settled to the east of the city of Paso Robles and first used the “Geneseo” name to identify the geographical area within the proposed viticultural area.⁶ These early settlers founded the Geneseo School, and the Geneseo School District served the region, as seen on an 1890 San Luis Obispo County map included with the petition.

⁶ Wallace V. Ohles, The Lands of Mission San Miguel (Clovis, CA: Word Dancer Press, 1977), page 118.

The current precinct map for San Luis Obispo County, dated 1986, identifies “Geneseo” as an electoral precinct with a boundary that generally corresponds with the proposed Paso Robles Geneseo District viticultural area boundary. The unincorporated community of Geneseo also appears on modern San Luis Obispo County maps submitted with the petition. On the 2004 “Cuesta Title” map, Geneseo is located to the southeast of the city of Paso Robles at the intersection of Geneseo and Creston Roads, and on the “AG Adventures of the Central Coast” map, Geneseo is located to the east of U.S. Route 101, between the city of Paso Robles and the community of Creston. Realtors also refer to the “Geneseo area of Paso Robles” when advertising real estate in the region of the proposed Paso Robles Geneseo District viticultural area, and the petition includes seven examples of such “Geneseo” real estate advertisements.

Boundary Evidence

The northern and northeastern portions of the proposed Paso Robles Geneseo District viticultural area boundary are shared with the proposed Paso Robles Estrella District viticultural area. These portions of the proposed boundary include section lines, roads, and straight lines connecting marked map points. The boundary roughly follows changes in topography, separating the high, older terraces of the proposed Paso Robles Geneseo District viticultural area from the Estrella River region's lower and newer terraces, floodplain deposits, and small alluvial fans with sandier and better drained soils.

The southeastern portion of the proposed boundary uses roads and straight lines that connect with marked map points to follow general changes in topography, dividing the flat, gently terraced terrain of Huerhuero Creek within the proposed viticultural area from the more rugged and steeper region to the east. A very small portion of the southeastern boundary of the proposed Paso Robles Geneseo District viticultural area is also shared with the northwestern portion of the boundary of the proposed Creston District viticultural area, at a juncture with the Huerhuero Creek.

The southern portion of the proposed boundary is an irregular southeast-to-northwest diagonal line that is shared with the proposed El Pomar District viticultural area and generally follows Huerhuero Creek. The boundary eventually turns westward from Huerhuero Creek and continues to a point in the eastern outskirts of the city of Paso Robles. The proposed boundary in this area roughly separates the proposed Paso Robles Geneseo District viticultural area from the cooler climate and more calcareous soils of the proposed El Pomar District viticultural area to the south. The western portion of the proposed boundary crosses over rolling hills, separating the proposed Paso Robles Geneseo District viticultural area from the Salinas River and the city of Paso Robles to the west.

Distinguishing Features

The distinguishing features of the proposed Paso Robles Geneseo District viticultural area include a modest marine influence, an average of 13 to 14 inches of annual precipitation, a transitional Winkler Region III to IV warm growing season climate, a landscape dominated by high hills and terraces, and elevations between approximately 740 and 1,300 feet.

Climate

The climate of the proposed Paso Robles Geneseo District viticultural area is influenced by marine incursion, thermal mixing of the air across hill tops, and cold air drainage from hill slopes. In the summer and fall, cool marine air travels inland and eastward over the crest of the Santa Lucia Range through the Templeton Gap and into the proposed Paso Robles Geneseo District viticultural area. Occasional incursions of marine air can also travel southward along the Salinas River from Monterey Bay and reach the hills of the proposed Paso Robles Geneseo District viticultural area. At night, cool air drains off of the hillsides and vineyards of the proposed viticultural area and into lower elevations outside of the proposed viticultural area. Because of this cold air drainage, frost and cold air ponding are rare within the proposed Paso Robles Geneseo District viticultural area, except along small sections of the Huerhuero Creek channel. Precipitation amounts average 13 to 14 inches annually.

The Winkler climate classification system classifies the proposed Paso Robles Geneseo District viticultural area as a warm Region III-IV transitional climate, with approximately 3,500 GDD units. (Daily temperature records and GDD data were gathered from 2002 through 2006 at the 980-foot elevation weather station of the Jerry Reaugh Branch Vineyard.) The petition notes that a warm Region III-IV transitional climate is well suited for growing Bordeaux varieties of winegrapes, including merlot and cabernet sauvignon, as well as Rhone varieties like syrah and zinfandel.

Topography

The landscape of the proposed Paso Robles Geneseo District viticultural area contains the older terraces of the Estrella River, a portion of Huerhuero Creek, Huerhuero Hills terraces, and up-faulted hills. The merging of the old river terraces and uplifted Huerhuero Hills, coupled with erosion by Huerhuero Creek and its tributaries, has created a set of higher elevation rolling hill slopes above the lower elevation valley floor. As a result, the landscape contains the appearance of hills that bulge, or bubble, upward from the valley floor. The terraces trend in a west-southwest to east-northeast direction as a flight of step-like surfaces with increasing elevations. The highest and oldest terraces of the Estrella River are located in this region and have elevations of 900 to 1,050 feet; a small section of second terraces of 860 to 880 feet in elevation is situated in the northwestern corner of the proposed viticultural area, east of the city of Paso Robles.

Elevations within the proposed Paso Robles Geneseo District viticultural area range from approximately 740 feet along Huerhuero Creek in the north to approximately 1,300 feet in the southeast. Vineyard elevations in the region generally vary from 880 feet to 1,200 feet, with a few vineyards located on the higher eastern hills.

The topography of the proposed Paso Robles Geneseo District viticultural area has a strong influence on the growing conditions in the area. The hillside and hilltop vineyards of the proposed Paso Robles Geneseo District viticultural area expose the grapevines to the cooling influence of the winds and sea breezes that enter the region through gaps in the crest of the Santa Lucia Range. The hillside and hilltop vineyards also are protected from frost, because cold air drains off of the high slopes of the proposed viticultural area at night and into the lower elevation valleys.

Soils

The soils of the proposed Paso Robles Geneseo District viticultural area have shallow to moderate rooting depths, moderate water stress, and modest to low nutrient levels. Area soils tend to be cemented by carbonates and silicates, which provides reduced rooting depths and moderate water holding capacity, drainage, and vigor.

The Huerhuero Hills soils within the proposed Paso Robles Geneseo District viticultural area are generally residual, silty clay, and silty clay loam soils weathered from the moderately consolidated Paso Robles Formation, with small stringers of sandy soils located immediately along the Huerhuero Creek channel. The soil series form a topographical sequence of types by slope position, from ridge-crest to shoulder-slope, mid-slope, foot-slope, and toe-slope. The Huerhuero residual soils are primarily Mollisols with darker and more organically rich horizons, leached at the surface. Many of the hilltop soils are high in calcium and have a pH typically 7.9 to 8.4 throughout. The alluvial terrace soils are generally acidic at the surface with pH of 5.6 to 6.5, increasing at depth to an alkaline 8.4.

Comparison to Adjacent Regions

The following chart summarizes the distinguishing features of the proposed Paso Robles Geneseo District viticultural area and compares those features to those of the adjacent proposed viticultural areas. TTB notes that there are no proposed viticultural areas located immediately to the east or west of the proposed Paso Robles Geneseo District viticultural area. The region to the east of the proposed viticultural area contains highly eroded terrain, shallow soils, and steep slopes, which contribute to slope instability and a high erosion hazard, while the region to the west contains the urban area of the city of Paso Robles.

Comparison of Proposed Paso Robles Geneseo District Viticultural Area to Adjacent Proposed Viticultural Areas
Distinguishing features | Paso Robles Geneseo District | To the north: Paso Robles Estrella District | To the south: El Pomar District
Winkler Region | Transitional Regions III-IV | Moderate Region III | Moderate Region II.
Maritime Climate* | 7 | 5 | 3.
Precipitation | 13-14 inches/year | 12.5-15.5 inches/year | 15 inches/year.
Topography | Upfaulted hills through old river terraces; elevation 740-1,300 feet (most vineyards at 880-1,200 feet) | Rolling plains of Estrella River valley and terraces; elevation 745-1,819 feet (most vineyards at 750-1,000 feet) | High, older terraces, fans, and hills; elevation 740-1,600 feet (most vineyards at 840-960 feet).
Soils | Well-developed moderate depth residual and alluvial soils, with silty clays and silty clay loam textures; pH varied, but mostly acidic | Deep to moderate depth alluvial terrace soils, with sandy to coarse and clay loam textures; slightly acidic, but more alkaline at depth | Terrace alluvial soils, with sandy, clay, and gravelly loam textures; primarily alkaline.
* Maritime climate indicated on scale from 1 (most maritime) to 8 (more continental).

Paso Robles Highlands District

The proposed 60,300-acre Paso Robles Highlands District viticultural area is a ranching and agricultural area in the southeastern portion of the Paso Robles viticultural area with approximately 2,000 acres of vineyards.

Name Evidence

The “Paso Robles Highlands District” name is based on the historical and current use of the “Highlands” or “Highlands District” name by local residents to refer to the geographical region of the proposed Paso Robles Highlands District viticultural area.

The name “Highlands” or “Highlands District” has been used to describe the region located within the proposed Paso Robles Highlands District viticultural area since at least the late 1800s. The Highlands School District, located largely within the proposed viticultural area, appears in local records as early as 1890. Although the school district did not extend to the eastern boundary of the proposed viticultural area, the Highlands School drew students from a broader area due to difficulties in accessing other schools in the region. In addition, a book documenting the settlement and development of the region refers to it as “the Highland district.” ⁷

⁷ Annie L. Morrison and John H. Hayde, Pioneers of San Luis Obispo County and Environs (Sanger, CA: Word Dancer Press, 2002), page 275.

Local residents still use the name “Highlands” to refer to the region of canyons and highlands to the east of Creston located within the proposed Paso Robles Highlands District viticultural area, according to the petition. Based on the common use of the term “Highlands” throughout the United States, the words “Paso Robles” and “District” were added as modifiers to the proposed viticultural area name.

Boundary Evidence

The northern portion of the boundary of the proposed Paso Robles Highlands District viticultural area uses a straight east-west line that follows section boundary lines. The northeastern portion of the boundary follows a 10-mile long leg along the western edge of the San Juan Valley. These portions of the proposed boundary divide the open spaces, broad vistas, and old erosional planation surfaces of the proposed Paso Robles Highlands District viticultural area from the broad alluvial plains of the proposed San Juan Creek viticultural area to the north and east.

The southeastern and southern portions of the proposed Paso Robles Highlands District viticultural area boundary are concurrent with the boundary of the existing Paso Robles viticultural area. The southeastern portion of the proposed boundary approximately marks the transition from the flatter terrain of the proposed Paso Robles Highlands District viticultural area to the rugged Temblor Range to the east. The southern portion of the boundary separates the proposed Paso Robles Highlands District viticultural area from the rugged La Panza Range and Los Padres National Forest.

The western portion of the proposed Paso Robles Highlands District viticultural area boundary follows a section line, a State Highway, and Indian Creek. Indian Creek, which forms most of the western portion of the boundary, separates the proposed Paso Robles Highlands District viticultural area from the proposed Creston District viticultural area to the west. The region to the northwest of the proposed Paso Robles Highlands District viticultural area contains rugged terrain that is not located within a proposed viticultural area due to the lack of viticultural development in that region.

Distinguishing Features

The proposed Paso Robles Highlands District viticultural area has a more continental climate as compared to other regions within the Paso Robles viticultural area, averages 12 inches of precipitation annually, and is classified as a low Winkler Region IV climate. The landscape in this region transitions from valley floor to mountain slopes, with elevations ranging between 1,160 to 2,086 feet.

Climate

The proposed Paso Robles Highlands District viticultural area, 33 miles inland from the Pacific Ocean, generally has a warmer and more continental climate with less precipitation than other regions of the Paso Robles viticultural area at similar elevations. Due to the proposed viticultural area's location to the east of the Santa Lucia Range and northeast of the La Panza Range, it lies in a double-rain shadow. However, due to its relatively higher elevations, the proposed Paso Robles Highlands District viticultural area still receives an average of 12 inches, or about two more inches, of rain annually than the regions farther to the east.

According to the Winkler climate classification system, the proposed Paso Robles Highlands District viticultural area has a low Region IV climate, based on the 3,678 average GDD units measured from 2000 to 2003 at the 1,400-foot elevation French Camp Vineyard. The abundant sunshine and warm temperatures result in moderate yields from vineyards within the proposed viticultural area.

The proposed Paso Robles Highlands District viticultural area has greater daily, monthly, seasonal, and annual temperature ranges when compared to other areas within the Paso Robles viticultural area. The difference between daily maximum and minimum temperatures in the mid- and late-summer can be 50 degrees F or more, with highs around 100 °F and lows around 50 °F. According to grape growers in the proposed Paso Robles Highlands District viticultural area, the warm summer days ensure full maturity of the fruit, while the cool evenings preserve acids in the grapes. The growers also note that due to its distinctive climate, grape harvest in the proposed viticultural area occurs two to four weeks earlier than in some other areas of the Paso Robles viticultural area.

Topography

The proposed Paso Robles Highlands District viticultural area is topographically distinct from the central and western regions of the Paso Robles viticultural area. The terrain in the proposed Paso Robles Highlands District viticultural area includes large expanses of open landscape and grasslands, high ridges with scattered coniferous trees, and low hills and terraces that are bisected by canyons and channels incised by intermittent streams. These canyons and streams appear as long fingers that run predominantly south to north across the landscape. The open spaces and broad vistas of the proposed Paso Robles Highlands District viticultural area serve as a geologic transition zone between the valley floor to the north and the La Panza Range to the south.

Elevations of the proposed Paso Robles Highlands District viticultural area generally increase from north to south toward the La Panza Range, rising from 1,160 feet in the area's north to 2,086 feet in the area's south. Vineyards in the proposed Paso Robles Highlands District viticultural area are generally planted on old alluvial terraces, alluvial fans, and hill slopes at elevations of 1,200 to 1,600 feet. These high elevations enable vineyards in the proposed viticultural area to benefit from more precipitation than surrounding lower elevations, as well as rapid hillside warming with the morning sun. At night, cold air drains off the high elevations and into the lower elevations outside the proposed viticultural area, reducing the risk of frost in vineyards within the proposed Paso Robles Highlands District viticultural area.

Soils

The soil textures of the proposed Paso Robles Highlands District viticultural area are predominantly sandy loams along the creeks, loams on the small alluvial fans, and coarse sandy loams to clay loams on the hillsides. Most soils have composite soil profiles, with older soils buried below the surface soil due to repeated alluvial deposition. In some areas, erosion has exposed some of the older buried soils. Many of the subsoils are cemented by calcium carbonate.

The soil orders within the proposed Paso Robles Highlands District viticultural area include more weakly developed Entisols along the creeks, Inceptisols on the young alluvial fans, and Mollisols on the upslope, more stable surfaces. Old, leached Alfisols are common on hillsides in the eastern part of the proposed viticultural area. The soils of the proposed Paso Robles Highlands District viticultural area have low to moderate fertility, good near surface drainage, and limited rooting depth, all of which contribute to low-vigor vineyards.

Most of the younger soils within the proposed Paso Robles Highlands District viticultural area are calcareous and alkaline at depth (with pH values of 7.9 to 8.4), and also occasionally alkaline at the surface (with pH values of 7.4 to 8.1) due to the aridity of the climate and the presence of the Monterey Formation to the south. The soil profile of the older Alfisols may be leached throughout to depth, with pH values of 5.6 to 6.5 in the acidic soils.

Comparison to Adjacent Regions

The following chart summarizes the distinguishing features of the proposed Paso Robles Highlands District viticultural area and compares those features to those of the adjacent proposed viticultural areas. TTB notes that there are no proposed viticultural areas to the northwest of the proposed Paso Robles Highlands District viticultural area; this region contains highly eroded terrain, shallow soils, and steep slopes, which contribute to slope instability and a high erosion hazard. In addition, there are no proposed or established viticultural areas to the south and southeast of the proposed Paso Robles Highlands District viticultural area. Those regions, which are outside of the existing Paso Robles viticultural area, contain the rugged terrain of the La Panza Range and the Los Padres National Forest, which is unavailable for commercial viticulture.

Comparison of Proposed Paso Robles Highlands District Viticultural Area to Adjacent Proposed Viticultural Areas
Distinguishing features | Paso Robles Highlands District | To the west: Creston District | To the north and east: San Juan Creek
Winkler Region | Low Region IV | Low-Moderate Region III | Transitional Regions III to Low IV.
Maritime Climate * | 8 | 4 | 8.
Precipitation | 12 inches/year | 11.5 inches/year | 10.4 inches/year.
Topography | Transitional area from valley floor to mountain slope; elevation 1,160-2,086 feet (most vineyards at 1,200-1,600 feet) | Old erosional plateau at base of La Panza Range; alluvial terraces and fans of Huerhuero Creek; elevation approximately 1,000-2,000 feet (most vineyards at 1,030-1,300 feet) | River valleys with alluvial plains and terraces; elevation 980-1,600 (most vineyards at 1,000-1,280 feet).
Soils | Deep alluvial soils, with sandy to coarse and clay loam textures, mostly alkaline at depth | Terrace alluvial and some residual soils, with fine sandy to gravelly and clay loam textures; slightly acidic at surface, more alkaline at depth | Well to moderately drained, deep alluvial soils, with great variety of loamy sands to gravelly and sandy clay loam textures; alkaline at depth (and occasionally at the surface).
* Maritime climate indicated on scale from 1 (most maritime) to 8 (more continental).

Paso Robles Willow Creek District

The proposed 16,622-acre Paso Robles Willow Creek District viticultural area is located in the westernmost portion of the Paso Robles viticultural area and contains approximately 1,400 acres of vineyards.

Name Evidence

The name “Paso Robles Willow Creek District” refers to the Willow Creek watershed and a small rural enclave in the center of the proposed viticultural area. Local residents refer to the region in which the proposed viticultural area is located as the “Willow Creek District.”

Willow Creek, an intermittent stream and tributary of Paso Robles Creek identified on the USGS York Mountain map, is a dominant geographical feature of the proposed viticultural area. The USGS York Mountain map also identifies Willow Creek Road, which runs in a northwest-to-southeast direction through the proposed Paso Robles Willow Creek District viticultural area. (The petition notes that the road identified as “Willow Creek” on the USGS York Mountain map is now known as “Vineyard Drive”; the roughly parallel mountain road to the east, unnamed on the York Mountain map, is now known as “Willow Creek Road.” The petition includes a map, from the “SanLuisObispoCounty.com” Web site, which identifies each road by its current name.) The 2001 Automobile Club of Southern California's San Luis Obispo County map also shows Willow Creek and Willow Creek Road within the proposed Paso Robles Willow Creek District viticultural area.

In addition, news articles in local publications use the “Willow Creek” name for the region within the proposed viticultural area. For example, a March 17, 2007 article entitled “Hands-On Hobby” in The Tribune (San Luis Obispo) discusses winemaker Charlie Poalillo and his “Willow Creek grape-growing business,” and an article entitled “Paso Robles Boy Has His Wish Fulfilled Saturday” in the June 22, 2005 Paso Robles Press discusses a young Make-A-Wish Foundation recipient who is described as living on his family's Willow Creek area ranch.

Local organizations also use the name “Willow Creek” to refer to the geographical region of the proposed viticultural area. An undated flyer for the annual Paso Robles Pioneer Day celebration includes a regional map that identifies Willow Creek in the area of the proposed viticultural area, and the Web site for the local Wine and Steins Club states that the group started in 1979 in the Willow Creek area of rural Paso Robles. Also, the Willow Creek Mennonite Church has existed within the proposed viticultural area since 1954.

Further, the “Willow Creek” name is used by some local wineries to more specifically describe the location of their vineyards in the Paso Robles viticultural area, according to wine marketing materials provided with the petition. For example, the Villa Creek Cellars 2007 spring release notes provide information on their 2005 Willow Creek Cuvée, and Stephen's Cellar and Vineyard explains that their 2003 Pinot Noir grapes were grown in the Willow Creek area.

Boundary Evidence

The northern portion of the boundary of the proposed Paso Robles Willow Creek District follows a rugged, mountainous ridgeline and eventually descends eastward to the Salinas River floodplain. The proposed northern portion of the boundary follows roads, intermittent streams, and the city limits of Paso Robles as marked on the provided USGS Templeton map. This boundary is shared with the southern boundary of the proposed Adelaida District viticultural area and separates the cool, mountainous proposed Paso Robles Willow Creek District viticultural area from the warmer, less mountainous proposed Adelaida District viticultural area.

The eastern portion of the boundary of the proposed Paso Robles Willow Creek District viticultural area follows roads, streams, and range lines to separate the proposed viticultural area from the gently sloping landscape that descends toward lower elevations to the east. The eastern and southeastern portion of the proposed boundary is based on the transition from the soft Monterey Formation rock within the proposed viticultural area, which contributes to the region's distinct terroir, to bedrock-alluvial contact to the east. The area immediately to the east of the proposed Paso Robles Willow Creek District viticultural area includes the city of Paso Robles and a portion of the proposed Templeton Gap District viticultural area.

The southern and southwestern portions of the proposed Paso Robles Willow Creek District viticultural area boundary follow various roads, streams, section and range lines, and straight lines between marked points on USGS maps to approximately follow the contact of the less resistant Monterey Formation units in the proposed Paso Robles Willow Creek District viticultural area, with a more resistant unit of the Monterey Formation to the south. The proposed Templeton Gap District viticultural area is located immediately to the south.

The western portion of the proposed Paso Robles Willow Creek District viticultural area boundary follows the Paso de Robles Land Grant and mountain roads. The boundary in this area is shared with the Paso Robles viticultural area boundary and separates both the proposed viticultural area and the Paso Robles viticultural area from the higher, more rugged mountain terrain of the York Mountain viticultural area to the west.

Distinguishing Features

The distinguishing features of the proposed Paso Robles Willow Creek District viticultural area include a strong marine influence, an average of 24 to 30 inches of precipitation annually, a cool Winkler Region II growing season climate, and a mountainous landscape with elevations of 960 to 1,900 feet.

Climate

The climate of the proposed Paso Robles Willow Creek District has significant maritime influence due to its location near gaps in the crest of the Santa Lucia Range and its high elevations. As a result, this proposed viticultural area is wetter and cooler than other regions of the Paso Robles viticultural area, with 24 to 30 inches of annual rainfall, frequent fog, and persistent sea breezes. Daily, monthly, and annual temperature ranges are less pronounced in this proposed viticultural area, and it is less affected by cold air drainage than most other regions of the Paso Robles viticultural area. This cooler climate is seen in the proposed Paso Robles Willow Creek District viticultural area's Winkler Region II climate classification of approximately 2,900 GDDs of growing season heat accumulation.

The cool climate of the proposed Paso Robles Willow Creek District viticultural area increases the ripening period for grapes, resulting in longer hang-time to develop flavors, with harvest dates approximately two to three weeks later than in other parts of the Paso Robles viticultural area. In addition, the higher annual precipitation in the proposed viticultural area results in thicker natural vegetation, which increases the input of humus to soils and allows viticulturally beneficial topsoils to develop on many slopes.

Topography

The proposed Paso Robles Willow Creek District viticultural area is a relatively high elevation, mountainous area of the Santa Lucia Range located in the western part of the Paso Robles viticultural area. The proposed area's location and topography create its distinctively cool climate, which, in turn, affects viticulture within the proposed viticultural area.

The proposed viticultural area's topography is largely defined by three small tributaries of Paso Robles Creek that run north-to-south down mountainsides into Paso Robles Creek: Willow Creek, Sheepcamp Creek, and Jack Creek. These creeks have eroded the hillsides of the proposed viticultural area, creating a mountain terroir of bedrock slopes. Jack Creek is located just inside the western portion of the proposed boundary, with Sheepcamp Creek to its east. Willow Creek is further to the east near the center of the proposed viticultural area, dominating its landscape.

Elevations in the proposed Paso Robles Willow Creek District viticultural area range from 1,900 feet along the high ridges of the northern portion of the boundary to 960 feet at the bedrock-alluvium contact to the east. Most of the vineyards within the proposed Paso Robles Willow Creek District viticultural area are planted at elevations between 1,000-1,300 feet, with many on south- to southeast-facing aspects, in order to benefit from the cool marine air that enters the proposed viticultural area from the south. The steep slopes have high erosion potential, which is often controlled though the planting of cover crops.

Soils

The parent materials of the soils of the proposed Paso Robles Willow Creek District viticultural area are the soft marine shales, mudstones, siltstones, and sandstones of the Monterey Formation, as well as small pockets of the poorly consolidated Paso Robles Formation. Benches along the small creeks are covered with alluvial sediments. Soil orders include Mollisols (where surface humus is abundant under woodlands) and younger, poorly developed Entisols on steep slopes. Occasionally Vertisols occur on very old geomorphic surfaces where pedogenic clays dominate the soil profile. Soil textures are predominantly shaly clays, clay loams, and rocky loams, with some units gravelly. Soils are alkaline at depth, with pH values commonly between 7.8 and 8.9.

The soils in the proposed Paso Robles Willow Creek District viticultural area have modest nutrient values and low to moderate water holding capacity, and are considered moderately fertile (although, in this mountainous region, fertility is also a function of slope stability, which influences soil depth). These soil characteristics create challenging conditions for winegrapes, and low yields are common for vineyards within the proposed Paso Robles Willow Creek District viticultural area.

Comparison to Adjacent Regions

The following chart summarizes the distinguishing features of the proposed Paso Robles Willow Creek District viticultural area and compares those features to those of the adjacent proposed viticultural areas. TTB notes that there are no proposed viticultural areas adjacent to the proposed area's northeast in the urban area of the city of Paso Robles. In addition, part of the western portion of the proposed boundary for the proposed Paso Robles Willow Creek District viticultural area is shared with the eastern portion of the York Mountain viticultural area boundary. The York Mountain viticultural area is closer to the Pacific Ocean than the proposed Paso Robles Willow Creek District viticultural area, contains elevations up to 1,500 feet on slopes of the Santa Lucia Mountains, receives an average of 45 inches of annual rainfall, and is classified as Winkler region I climate zone.

Comparison of Proposed Paso Robles Willow Creek District Viticultural Area to Adjacent Proposed Viticultural Areas
Distinguishing features | Paso Robles Willow Creek District | To the north: Adelaida District | To the south and southeast: Templeton Gap District
Winkler Region | Region II | Transitional Regions II-III | Region II.
Maritime Climate * | 1 | 6 | 1.
Precipitation | 24-30 inches/year | 25 inches/year | Approximately 20 inches/year.
Topography | Mountain slopes of Santa Lucia Range to the west of the Salinas River, centered on the Willow Creek tributary to Paso Robles Creek; elevation 960-1,900 (most vineyards at 1,000-1,300 feet) | Santa Lucia Range high mountain slopes grading to base of foothills; elevation approximately 900-2,200 feet (most vineyards at 1,100-1,800 feet) | Broad terraces in moderate to low elevation area of the Santa Lucia Range with elevations ranging from 700 feet to 1,800 feet (most vineyards at 800-940 feet).
Soils | Mostly shallow calcareous soils of residual (bedrock) origin with shaly clays, clay loams, and rocky loams, with some units gravelly and with patches of alluvial soil along streams; alkaline at depth | Shallow, well-drained, residual soils with silty and clay loam textures; moderately alkaline | Moderate depth, partially cemented alluvial soils on river terraces and sections of older alluvial fans with silt loams, silty clays, clay loams, and sandy loams (with some units gravelly); some with slightly acidic topsoils and others neutral to slightly alkaline at surface (all alkaline at depth).
* Maritime climate indicated on scale from 1 (most maritime) to 8 (more continental).

San Juan Creek

The proposed 26,600-acre San Juan Creek viticultural area is located in the eastern part of the Paso Robles viticultural area with approximately 3,000 acres of vineyards planted.

Name Evidence

The proposed San Juan Creek viticultural area boundary closely approximates the valley floor of San Juan Creek, which flows northward to the Estrella River near the town of Shandon. The “San Juan Creek” name has been used in connection with the eastern portion of the Paso Robles region since the early days of San Luis Obispo County. One of the early land grants in San Luis Obispo County was named “San Juan Capistrano del Camate,” and the name “San Juan” was subsequently applied to the creek. Early maps of San Luis Obispo County from 1874, 1890, and 1913 identify San Juan Creek as the southern branch of the Estrella River. In addition, the 1890 San Luis Obispo County map shows the name “San Juan” used in connection with school and political districts in the region of the proposed San Juan Creek viticultural area.

San Juan Creek continues to be identified on modern San Luis Obispo County maps in the same region as the proposed San Juan Creek viticultural area, including a 1986 precinct map for San Luis Obispo County, the 2001 Automobile Club of Southern California (AAA) San Luis Obispo County map, the 2005 AAA San Luis Obispo County Cities map, and the USGS Holland Canyon and Camatta Canyon quadrangle maps. Each of these maps is included with the petition.

Boundary Evidence

As previously stated, the proposed San Juan Creek viticultural area boundary closely approximates the San Juan Creek valley floor. The proposed viticultural area is roughly rectangular, with a narrow 10-mile long leg extending to the southeast to the eastern boundary of the existing Paso Robles viticultural area.

The northern portion of the proposed San Juan Creek viticultural area boundary follows section lines, which approximately follow a line of peaks marking where the proposed viticultural area's terrain ascends to the Cholame Hills of the Temblor Range. These regions to the north of the proposed viticultural area contain steep, arid terrain that contrasts to the more fertile alluvial plains of the proposed viticultural area.

The eastern portion of the proposed San Juan Creek viticultural area boundary extends south and southeast approximately 17.5 miles, and includes the eastern side of the narrow, 10-mile long leg encompassing the San Juan Valley. East of the proposed boundary, the Temblor Range dominates the landscape with rugged terrain and high elevations that contrast with the alluvial plains of the proposed viticultural area.

The southern portion of the proposed San Juan Creek viticultural area boundary follows the western side of the long, narrow leg along the San Juan Valley, before turning west and following section lines to Shedd Canyon. The proposed boundary in this region divides the alluvial plains within the proposed San Juan Creek viticultural area from the open spaces, broad vistas, and old erosional planation surfaces of the proposed Paso Robles Highlands District viticultural area to the south.

The western portion of the proposed San Juan Creek viticultural area boundary follows Shedd Canyon northward to the Estrella River, and then continues northward over mountainous terrain. Shedd Canyon provides a natural divide between the alluvial plains within the proposed San Juan Creek viticultural area and the steep mountainous terrain to the southwest as well as the hills and benches of the Estrella River Valley to the northwest. The northwestern portion of the proposed San Juan Creek viticultural area boundary is shared with the southeastern portion of the proposed Paso Robles Estrella District viticultural area boundary.

Distinguishing Features

The proposed San Juan Creek viticultural area has a less marine-influenced, more continental climate, and contains alluvial plains and terraces that dominate the landscape with elevations between approximately 980 and 1,600 feet.

Climate

Located 30 miles inland from the Pacific Ocean, the proposed San Juan Creek viticultural area is climatically affected by the surrounding Santa Lucia Range and Temblor Range mountains, which greatly reduce the ocean's marine influence on the area. As a result, the proposed San Juan Creek viticultural area has a more continental climate that is drier, less breezy, and generally warmer, with great temperature ranges, than areas further west in the Paso Robles viticultural area.

Precipitation within the proposed San Juan Creek viticultural area averages 10.4 inches a year, based on data collected from the Shandon Pump station, located within the proposed viticultural area to the northeast of Shandon. The Winkler climate system classifies the proposed San Juan Creek viticultural area as a high Region III climate (or a low Region IV climate in warmer years). Shandon Hills Vineyard, located in the center of the proposed San Juan Creek viticultural area at 1,120 feet, averaged 3,394 GDD units annually from 1997 through 2006. The warm temperatures and abundant sunshine within the proposed viticultural area result in moderate vineyard yields and harvest dates that are earlier than the harvest dates of the cooler central and western parts of the Paso Robles viticultural area.

Topography

Broad alluvial plains, constructed by the Estrella River and its tributary streams, dominate the topography of the proposed San Juan Creek viticultural area. A series of high to low alluvial terraces lie along the Estrella River and along the alluvial fan and delta complex where San Juan Creek and Cholame Creek combine to form the Estrella River near the town of Shandon. The lowland alluvial plains of the proposed San Juan Creek viticultural area are surrounded by the steep Cholame Hills of the Temblor Range slopes to the north and east.

Elevations within the proposed San Juan Creek viticultural area range from approximately 980 feet along the Estrella River to approximately 1,600 feet along the northern portion of the proposed boundary in the Cholame Hills of the Temblor Range. Most of the vineyards within the proposed San Juan Creek viticultural area are planted at elevations of 1,000 to 1,280 feet on river terraces, small alluvial fans, and across the larger alluvial plain. Although some vineyards are planted on steep slopes with southerly and northerly aspects, the proposed viticultural area's vineyards are generally located on flat land and gentle slopes with less than eight degrees incline, which exposes them to day-long direct sunlight, cooling breezes from mountain-valley winds, and occasional sea breezes.

Soils

Soil textures of the proposed San Juan Creek viticultural area are predominantly loamy sands to sandy loams along the creeks and alluvial plains, and gravelly to sandy clay loams, and a few clays, on the older alluvial fans and terraces. Most soils have composite soil profiles, with older buried soils below the surface soil due to repeated alluvial deposition. Area soils are well- to moderately- drained and have good rooting depth and modest nutrient values. The soils within the proposed viticultural area create vineyards with moderate vigor growing characteristics when balanced with careful irrigation.

Soil orders in the San Juan Creek region are diverse and related to landform age, and include the more weakly developed Entisols and Inceptisols, along with better developed Mollisols and Alfisols, and strongly developed Vertisols. The best developed soils in the proposed San Juan Creek viticultural area are on the oldest alluvial fans, especially along the north side of the Estrella River, close to the northern portion of the proposed boundary. The oldest soils are leached at the surface (pH values of 6.1-7.3), with some profiles leached throughout. Many of the soils are calcareous and alkaline at depth (pH values of 7.9-8.4), and occasionally alkaline at the surface (pH values of 7.4-8.4), based on the aridity of the climate and the presence of the Monterey Formation to the south. With the native grassland vegetation of the proposed viticultural area, the more mature soils (Mollisols and Alfisols) have a well-developed surface horizon high in organic material, adding nutrients to the soils.

Comparison to Adjacent Regions

The following chart summarizes the distinguishing features of the proposed San Juan Creek viticultural area and compares those features to those of the adjacent proposed viticultural areas. TTB notes that there are no proposed viticultural areas located immediately to the north or east of the proposed San Juan Creek viticultural area. The regions to the north and east of the proposed San Juan Creek viticultural area contain the steep, arid terrain of the Cholame Hills and the Temblor Range, which contrasts to the valley terrain and more fertile soils of the proposed viticultural area. The region to the southwest of the proposed San Juan Creek viticultural area that is not included in another proposed viticultural area contains highly eroded terrain, shallow soils, and steep slopes, which contribute to slope instability and a high erosion hazard.

Comparison of Proposed San Juan Creek Viticultural Area to Adjacent Proposed Viticultural Areas
Distinguishing features | San Juan Creek | To the northwest: Paso Robles Estrella District | To the south: Paso Robles Highlands District
Winkler Region | Transitional Regions III to Low IV | Moderate Region III | Low Region IV.
Maritime Climate * | 8 | 5 | 8.
Precipitation | 10.4 inches/year | 12.5-15.5 inches/year | 12 inches/year.
Topography | River valleys with alluvial plains and terraces; elevation 980-1,600 (most vineyards at 1,000-1,280 feet) | Rolling plains of Estrella River valley and terraces; elevation 745-1,819 feet (most vineyards at 750-1,000 feet) | Transitional area from valley floor to mountain slope; elevation 1,160-2,086 feet (most vineyards at 1,200-1,600 feet).
Soils | Well to moderately drained, deep alluvial soils, with great variety of loamy sands to gravelly and sandy clay loam textures; alkaline at depth (and occasionally at the surface) | Deep to moderate depth alluvial terrace soils, with sandy to coarse and clay loam textures; slightly acidic, but more alkaline at depth | Deep alluvial soils with sandy to coarse and clay loam textures, mostly alkaline at depth.
* Maritime climate indicated on scale from 1 (most maritime) to 8 (more continental).

San Miguel District

The proposed 19,014-acre San Miguel District viticultural area contains approximately 1,500 acres of vineyards. The proposed area is located in the north-northwestern portion of the Paso Robles viticultural area, along the northern boundary of the Paso Robles viticultural area, where the Salinas River leaves San Luis Obispo County.

Name Evidence

The name “San Miguel” has long been associated with the region in which the proposed San Miguel District viticultural area is located. The region is the site of the Mission San Miguel Arcángel, a Franciscan Mission established in 1797. The small town of San Miguel is located within the proposed San Miguel District viticultural area along Highway 101 to the north of the city of Paso Robles, as shown on the USGS San Miguel and Paso Robles maps and the 2001 Automobile Club of Southern California road map.

The “San Miguel” name also has been used in association with various historical and modern community districts located within the boundary of the proposed viticultural area, including a school district, cemetery district, supervisorial district, and a community services district. The San Miguel School District, as shown on the 1874 San Luis Obispo County map, still exists today as the “San Miguel Joint Unified School District.” The San Miguel Precinct is shown on the 1913 San Luis Obispo County map, and it continues to be the name of a voting precinct in northern San Luis Obispo County. Also, the San Miguel District Cemetery, formed in 1939, serves the community of San Miguel and northern San Luis Obispo County. In addition, in 2000, the San Miguel Community Services District consolidated the government services provided by the San Miguel Fire Protection District, the San Miguel Lighting District, and the San Luis Obispo Waterworks District 1.

Boundary Evidence

The northern portion of the proposed San Miguel District viticultural area boundary is concurrent with a portion of the northern boundary of the Paso Robles viticultural area, and it is also concurrent with the San Luis Obispo-Monterey County line. This portion of the proposed viticultural area's boundary connects the Nacimiento River valley in the west to the Lowes Canyon in the east as it crosses over the Salinas River, mountainous terrain, and canyons.

The eastern portion of the boundary of the proposed San Miguel District viticultural area follows San Jacinto Creek south-southwesterly (downstream) through the mountainous terrain surrounding Lowes Canyon to the Estrella River. The boundary then continues southerly (upstream) a short distance along the Estrella River before turning west along a section line and continuing to the Salinas River. The boundary continues south (upstream) along the Salinas River to the southeastern corner of the proposed viticultural area boundary, east of the town of Wellsona. The eastern portion of the proposed boundary closely matches the current and historical San Miguel political boundaries and separates the proposed San Miguel District viticultural area from the proposed Paso Robles Estrella District viticultural area to the east.

The southern portion of the proposed San Miguel District viticultural area boundary follows several roads that closely parallel San Marcos Creek and closely aligns with the boundaries of the San Miguel school, cemetery, and supervisorial districts. In this area, the proposed San Miguel District viticultural area is adjacent to the northeastern portion of the proposed Adelaida District viticultural area.

The western portion of the proposed boundary of the proposed San Miguel District viticultural area follows the eastern boundary of the Camp Roberts Military Reservation, which is located to the west of the proposed viticultural area and is unavailable for commercial viticulture. TTB notes that the petition's boundary for this proposed viticultural area originally included a portion of Camp Roberts. However, the proposed boundary was amended at TTB's request to exclude land within Camp Roberts Military Reservation from the proposed viticultural area since it is unavailable for private use.

Distinguishing Features

The proposed San Miguel District viticultural area has a very mild marine influence, receives an average of 11.4 inches of annual precipitation, and is considered a warm Winkler Region III climate zone. Alluvial fans and well-defined terraces dominate the landscape of the proposed San Miguel District viticultural area, with elevations ranging from approximately 580 to 1,600 feet.

Climate

The climate of the proposed San Miguel District viticultural area is generally drier, warmer, and windier than most of the larger Paso Robles viticultural area, except in the Paso Robles area's more eastern inland regions. The petition notes that long-term climate data for the community of San Miguel is limited to precipitation information, and all other climate parameter values must be inferred based on the distances from the ocean, orographic influences from the mountains, and other topographic influences, such as elevation.

The San Miguel weather station averages 11.4 inches of annual precipitation; this low level is largely a function of the rain shadow created by the Santa Lucia Range to the west of the proposed viticultural area. Within the Paso Robles viticultural area, the proposed San Miguel District viticultural area has the second lowest precipitation total, exceeding only the 10.4 annual inches received by the proposed San Juan Creek viticultural area located further inland to the east. According to the petition, the dry conditions make irrigation necessary to establish and maintain most vineyards within the proposed viticultural area.

The proposed San Miguel District viticultural area has a Winkler Region III climate, with 3,300 to 3,400 annual GDD totals, based on anecdotal evidence from local growers and intermittent weather data. The proposed San Miguel District viticultural area has the third highest Winkler degree day range among the 11 proposed viticultural areas, trailing only the more inland proposed San Juan Creek and Paso Robles Highlands District viticultural areas, both classified as low Region IV growing areas. Warm temperatures lead to earlier ripening of the grapes than in most other areas of the Paso Robles viticultural area.

Topography

Both the Salinas and Estrella Rivers bisect the proposed San Miguel District viticultural area, and they converge near the center of the region. Both rivers have laid down deep alluvial deposits of silts, sands, and gravels, which the rivers have cut through to form a series of well defined, stepped river terraces. The active floodplains and terraces of the two rivers are prevalent throughout the southeast, central, and northern portions of the proposed San Miguel District viticultural area, while canyons divide several mountains in the north-northeast portion of the proposed viticultural area.

The proposed San Miguel District viticultural area includes the lowest elevations within the Paso Robles viticultural area at 580 feet, where the Salinas River exits San Luis Obispo County as it flows north toward the Pacific Ocean at Monterey Bay. The highest elevation in the proposed San Miguel District viticultural area is an approximately 1,600-foot peak located near the northern portion of the proposed boundary, according to the USGS maps. Most vineyards within the proposed San Miguel District viticultural area are located at 640 to 800 feet, with a few vineyards planted at higher elevations.

Soils

Deep alluvial soils cover the floodplains, terraces, and benches of the proposed San Miguel District viticultural area. Mollisols dominate the soil orders of the proposed San Miguel District viticultural area, but older Alfisols and Vertisols are also present. The deep soils generally provide adequate rooting depths for plants, including grapevines, although some of the older alluvial soils have clay pans, which impede rooting to depth. Small outcrops of granite and Monterey shale, found at around 1,000 feet in elevation, have different soils as residual soils forming on bedrock, with shallower rooting depths for the vines.

Comparison to Adjacent Regions

The following chart summarizes the distinguishing features of the proposed San Miguel District viticultural area and compares those features to those of the adjacent proposed viticultural areas. TTB notes that there are no proposed viticultural areas located to the immediate west of the proposed San Miguel District viticultural area within the Camp Roberts Military Reservation, which is unavailable for commercial viticulture. Further west, the terrain ascends to the Santa Lucia Range. In addition, there are no established or proposed viticultural areas directly to the north of the proposed San Miguel District viticultural area in Monterey County, which is outside of the Paso Robles viticultural area. The region to the north, which is part of the Temblor Range, contains steep canyons and mountainous terrain that contrast to the low elevations, river terraces, and footslopes of the proposed viticultural area.

Comparison of Proposed San Miguel District Viticultural Area to Adjacent Proposed Viticultural Areas
Distinguishing features | San Miguel District | To the south: Adelaida District | To the east: Paso Robles Estrella District
Winkler Region | Warm Region III | Transitional Regions II-III | Moderate Region III.
Marine Influence * | 7 | 6 | 5.
Precipitation | 11.4 inches/year | 25 inches/year | 12.5-15.5 inches/year.
Topography | Santa Lucia Range footslope into Salinas and Estrella River valleys; alluvial fans and well-defined river terraces; elevation 580-1,600 feet (most vineyards at 640-800 feet) | Santa Lucia Range high mountain slopes grading to base of foothills; elevation approximately 900-2,200 feet (most vineyards at 1,100-1,800 feet) | Rolling plains of Estrella River valley and terraces; elevation approximately 745-1,819 feet (most vineyards at 750-1,000 feet).
Soils | Deep alluvial soils, with clay, sandy, and gravelly loam textures | Shallow, well-drained, residual soils with silty and clay loam textures; moderately alkaline | Deep to moderate depth alluvial terrace soils, with sandy to coarse and clay loam textures; slightly acidic, but more alkaline at depth.
* Maritime climate indicated on scale from 1 (most maritime) to 8 (more continental).

Santa Margarita Ranch

Located in the southernmost portion of the Paso Robles viticultural area, the proposed 17,835-acre Santa Margarita Ranch viticultural area contains approximately 800 acres of vineyards. The majority of the southern, western, and southeastern portions of the proposed boundary are concurrent with the boundary of the Paso Robles viticultural area. Unlike the other viticultural areas proposed in this document, the proposed Santa Margarita Ranch viticultural area is not immediately adjacent to any other proposed viticultural area.

Name Evidence

The name “Santa Margarita Ranch” is a well-recognized, historically significant geographic place name for the region in which the proposed viticultural area is located. The name is based on that of the Spanish mission Santa Margarita de Cortona Asistencia, which was located within the area and was an outpost of Mission San Luis Obispo de Tolosa. Historically, the lands of the Santa Margarita mission were known as “Santa Margarita Rancho,” and today, local residents still refer to the region as Santa Margarita Ranch. TTB notes that the “Santa Margarita Land Grant” is marked on the Lopez Mountain, San Luis Obispo, Santa Margarita, and Atascadero USGS maps, and that the great majority of the Santa Margarita Land Grant is within the proposed viticultural area.

The Santa Margarita USGS map also shows the later, and still-existent, Santa Margarita Ranch located beside Santa Margarita Creek just north of the small town of Santa Margarita, all of which are located within the proposed viticultural area. In addition, the region is served by the Santa Margarita Cemetery District.

The petition requests that only the full name of “Santa Margarita Ranch” be considered viticulturally significant to more specifically identify the location of the proposed viticultural area and to avoid affecting any existing label holders. The petition explains that the term “Santa Margarita” presently is used in the brand name of Santa Margarita Winery in Temecula, California, and in the homonymous Italian wine brand Santa Margherita.

Boundary Evidence

The proposed Santa Margarita Ranch viticultural area extends southeast-to-northwest approximately 9 miles, and its proposed boundary roughly follows the historic Santa Margarita Land Grant boundary, with a few minor variations to exclude areas that are currently unavailable for viticulture. Approximately half of the boundary of the proposed Santa Margarita Ranch viticultural area on its east, south, and west sides is concurrent with the boundary of the Paso Robles viticultural area.

The northern portion of the proposed Santa Margarita Ranch viticultural area boundary follows a combination of a land grant line, roads, and section lines that approximately delineate the northernmost extent of the Santa Margarita Land Grant region that is suitable for viticultural development, while excluding the urbanized areas of Atascadero to the north and the rugged terrain to the northeast.

The eastern portion of the proposed boundary follows the Salinas River to the point where it becomes concurrent with the Paso Robles viticultural area boundary, which it then follows south across the Santa Margarita Valley. The terrain to the east of the proposed boundary is steep and rugged, and the region to the southeast includes terraces, benches and a generally flat valley floor.

The southern and southwestern portions of the proposed Santa Margarita District viticultural area boundary are based on the Santa Margarita grant line, section lines, and the boundary of the Los Padres National Forest. While the southern and southwestern portions of the boundary largely coincide with the existing Paso Robles viticultural area boundary, the southwestern corner of the originally proposed boundary was modified at TTB's request to remove approximately 800 acres of land located in the Los Padres National Forest, which is unavailable for commercial viticulture. In this southwestern region, the boundary of the proposed Santa Margarita Ranch viticultural area follows the boundary of the Los Padres National Forest, slightly to the east and then north of the established Paso Robles viticultural area boundary.

The remainder of the western portion of the proposed boundary is located along the eastern foothills of the Santa Lucia Range, and it follows the southwestern portion of the Paso Robles viticultural area boundary.

Distinguishing Features

The proposed Santa Margarita Ranch viticultural area has a moderate marine influence, averages 29 inches of precipitation annually, and has a relatively cool Winkler Region II climate. The valley floor and surrounding hillsides dominate the landscape, with elevations ranging from 900 to 1,400 feet.

Climate

The proposed Santa Margarita Ranch viticultural area has a mountain-valley climate, which is distinctive within the Paso Robles viticultural area, due to its location within the narrow Santa Margarita Valley. The climate of the proposed Santa Margarita Ranch viticultural area is characterized by a Winkler Region II climate (approximately 2,900 GDDs), as documented by data from the Santa Margarita Boost weather station located at the top of the Chorro Creek watershed.

Precipitation in the proposed Santa Margarita Ranch viticultural area averages 29 inches a year, generally higher than the precipitation amounts received in other regions within the Paso Robles viticultural area. Some marine air is able to enter the proposed viticultural area through the Cuesta Pass in the Santa Lucia Range, and significant annual precipitation results from Pacific storms that release water across the high mountain ridges of the Santa Lucia Range into the proposed viticultural area.

As compared to the proposed Templeton Gap District and Paso Robles Willow Creek District viticultural areas to the north, the growing season in the proposed Santa Margarita Ranch viticultural area is less affected by the marine influence entering the Paso Robles region through the Templeton Gap. This reduced marine influence results in higher daytime maximum and lower nighttime minimum temperatures. In addition, cold air drains from the surrounding higher elevations and ponds in the Santa Margarita Valley. As a result, frost is an issue on the valley floor during the early growing season, and frost protection is a necessity for area vineyards.

Topography

The proposed Santa Margarita Ranch viticultural area is located within the narrow, southeast-to-northwest Santa Margarita Valley, between the La Panza Range and Salinas River to the east and the Santa Lucia Range to the west. Elevations within the proposed viticultural area range from approximately 900 feet at the Salinas River in its northeast corner to approximately 1,400 feet in its northwest corner along the Los Padres National Forest boundary. The valley floor, at approximately 1,100 to 1,200 feet in elevation, includes a nearly flat landscape with gradual inclines and some hills to the north near the town of Santa Margarita. Numerous creeks flow through the Santa Margarita Valley to the Salinas River, including Santa Margarita Creek, Yerba Buena Creek, Trout Creek, Burrito Creek, and Rinconada Creek.

Vineyards within the proposed Santa Margarita Ranch viticultural area are planted primarily on the valley floor, across gently rolling terraces and perched above the creek beds. Because the vineyards are planted on the valley floor, they are at a risk of frost when cold air drains into the valley from the surrounding mountains at night.

A small groundwater basin within the Santa Margarita Valley is the primary water resource for the proposed Santa Margarita Ranch viticultural area, both for irrigation and frost protection. In contrast, most of the Paso Robles viticultural area relies on a large groundwater basin east of the city of Paso Robles for water resources.

Soils

The soils of the proposed Santa Margarita Ranch viticultural area are a series of young, sandy loam to loam soils in the floodplains of the creeks, loam and gravelly loam soils on the terraces, clay loams on the highest terraces and hillsides, and pockets of clay soils in low-lying basins. The diversity of soil types reflects the ages of the alluvial terrace fans and the bedrock (or parent) material type, sometimes mixed from several geological formations. Parent materials include Monterey shale, Santa Margarita sandstone, Cretaceous granite, Cretaceous marine sandstones, and conglomerates.

The 1978 soil survey for the Paso Robles area indicates that vineyards within the proposed viticultural area contain soils that are primarily Mollisols (deep, rich, grassland soils), with smaller areas of younger Entisols and Inceptisols, clay-rich Vertisols, and older, leached Alfisols (where soil leaching to depth has occurred through time). The soils are slightly acidic at the surface (pH values of 5.6 to 7.0), and either acidic or alkaline at depth (pH varying from 5.1 to 8.4, influenced by both parent material and time). Few of the soils within the proposed viticultural area are calcareous, unlike the soils to the north within the proposed Templeton Gap District, Paso Robles Willow Creek District, and Adelaida District viticultural areas. Most of the soils within the proposed Santa Margarita Ranch viticultural area are considered fertile, due to the presence of abundant humus. In order to prevent overly vigorous growth in the fertile soils, vines are spaced closely together to promote root competition, and water is carefully managed.

Comparison to Adjacent Regions

As noted above, the proposed Santa Margarita Ranch viticultural area is not immediately adjacent to any other of the viticultural areas proposed in this document. The region directly to the northwest of the proposed Santa Margarita Ranch viticultural area contains the urban area of the city of Atascadero. To the northeast of the proposed viticultural area, the terrain is more rugged and mountainous and difficult to farm and contrasts to the mostly valley terrain of the proposed Santa Margarita Ranch viticultural area. The mountainous regions to the east, south, and west of the proposed viticultural area are outside of the Paso Robles viticultural area, with those areas to the south and west in the Los Padres National Forest unavailable for viticulture.

Although the Santa Margarita Valley continues to the southeast of the proposed viticultural area, that region is considered to be viticulturally distinct from the region within the proposed viticultural area based on cooler temperatures and lack of sufficient water for frost protection and irrigation.

Templeton Gap District

The 19,017-acre proposed Templeton Gap District viticultural area is located in the western portion of the Paso Robles viticultural area and contains approximately 1,600 acres of vineyards.

Name Evidence

The “Templeton Gap District” name is based on historical and modern name evidence associating the name with the region within which the proposed viticultural area is located. The name “Templeton Gap District” combines the name of the town of Templeton with the term “gap,” which collectively identifies several passes located along the crest of the Santa Lucia Range to the west of the proposed viticultural area.

The small town of Templeton, located between U.S. Route 101 and the Salinas River north of Atascadero and south of Paso Robles, is within the proposed Templeton Gap District viticultural area. The town is shown on the USGS Templeton map and the 2001 San Luis Obispo County map published by the Automobile Club of Southern California.

The name “Templeton Gap” originated from Ken Volk, a Paso Robles wine industry member. In the early 1980s, the name “Templeton Gap” first appeared in marketing and public relations material for Volk's Wild Horse Winery and Vineyards located within the proposed Templeton Gap District viticultural area on the east side of the Salinas River. Volk used the “Templeton Gap” name to collectively identify several passes in the Santa Lucia Range that allow marine air and fog from the Pacific Ocean to flow east over the mountains and into the Templeton region via several canyons containing eastward flowing streams, particularly Paso Robles Creek.

Since then, the “Templeton Gap” name has appeared in a number of wine-related books and publications. For example, a book about the wines of California and the Pacific Northwest notes that the “. . . cooling ocean air streaming through Templeton Gap” is a major influence on the Paso Robles region's climate.⁸ A magazine article describes the Paso Robles area growing season climate as having “very hot days that can be suddenly cooled by ocean breezes through the Templeton Gap,” ⁹ and a book about California wines refers to the “Templeton Gap” as a place where maritime cooling travels inland and benefits the vines.¹⁰ In addition, an article in Decanter magazine about the Paso Robles region also refers to the “Templeton Gap” and notes the cooling effect on area vineyards of ocean air that passes through the gap.¹¹

⁸ Bob Thompson, The Wine Atlas of California and the Pacific Northwest (New York: Simon and Schuster, 1993), page 130.

⁹ Lora J. Finnegan, “California's Heritage Wine,” Sunset Magazine, October 1995, page 82.

¹⁰ Stephen Brook, The Wines of California (New York: Faber & Faber, 1999), pages 131-132.

¹¹ Janice Fuhrman, “Paso Robles, A World Apart,” Decanter, August 2005, page 45.

The petition notes that, outside of the wine industry, the name “Templeton Gap” also has evolved into a name for the region within the proposed viticultural area. In 1994, the Western Weather Group of Chico, California, established five weather stations in the Paso Robles viticultural area, including the “Templeton Gap” station. Real estate advertisements also use the name “Templeton Gap” to identify property locations within the proposed viticultural area. In addition, the petition included letters from several business owners located within the proposed Templeton Gap District viticultural area that state the “Templeton Gap” geographical name is commonly used in association with the region.

Boundary Evidence

The northern portion of the proposed Templeton Gap District viticultural area boundary follows several roads, streams, and a range line. This portion of the proposed boundary is primarily based on geology, separating the more resistant Monterey formation bedrock of the proposed viticultural area from the higher elevation mountain slopes of the softer, less resistant, shaly, calcareous bedrock of the proposed Paso Robles Willow Creek District viticultural area to the north.

The eastern portion of the proposed Templeton Gap District viticultural area boundary, which is mostly shared with the proposed El Pomar District viticultural area, runs southward along the Salinas River and a tributary before shifting to the southeast along a series of roads and straight lines between elevation points and road intersections. This boundary approximately follows a line of hills that rise above the Rinconada Fault line. These hills temper the full cooling effects of the winds that flow from the southwest into the proposed Templeton Gap District viticultural area. In addition, depending on the depth of the marine layer, fog often settles in these hills, providing a visible indication of the boundary of the proposed viticultural area.

The southern portion of the proposed Templeton Gap District viticultural area boundary follows a combination of straight lines, a road, a portion of the Salinas River and a portion of the historic Paso de Robles Land Grant's southern boundary. This portion of the boundary also approximates a geological boundary between the upper and lower members of the Monterey Formation. The southern portion of the proposed viticultural area's boundary also marks the southern limit of the Templeton Gap's identity as a region, as the region immediately to the south is within the urbanized area of the city of Atascadero.

The western portion of the proposed Templeton Gap District viticultural area boundary, which is concurrent with part of the western boundary of the Paso Robles viticultural area, primarily follows the Paso de Robles Land Grant boundary. A segment of this portion of the boundary is also shared with the York Mountain viticultural area to the immediate west. The York Mountain viticultural area is closer to the Pacific Ocean, receives more precipitation, and has higher elevations and more rugged mountain terrain than both the Paso Robles viticultural area and the proposed Templeton Gap District viticultural area.

Distinguishing Features

The distinguishing features of the proposed Templeton Gap District viticultural area include a very strong marine influence, a cooler growing season climate, and an average of 20 inches of annual precipitation. The proposed Templeton Gap District viticultural area has elevations ranging from approximately 700 to 1,800 feet, with broad terraces and a landform gap dominating the landscape.

Climate

The proposed Templeton Gap District viticultural area has the most maritime climate within the Paso Robles viticultural area, with more fog and higher relative humidity, more moderated daily, monthly, and annual temperature ranges, and more persistent sea breezes. With a Winkler Region II climate of approximately 2,900 GDDs, the proposed Templeton Gap District viticultural area, along with the proposed Paso Robles Willow Creek viticultural area, has the coolest growing season climate within the larger Paso Robles viticultural area. Annual precipitation in the proposed Templeton Gap District viticultural area averages 20 inches.

The passes in the crest of the Santa Lucia Range, collectively known as the Templeton Gap, bring the Pacific Ocean's maritime influence into the proposed viticultural area. As the marine layer builds to greater heights on the Pacific Ocean side of the coastal mountain slopes, the cooler and denser marine air spills through the passes and flows eastward to the lower elevations of the proposed viticultural area. In addition, a strong pressure gradient is created when there is a marked contrast between the cooler marine air along the coast and the warmer air inland, resulting in strong sea breezes extending east and inland across the proposed viticultural area. Due to the accelerated air flow through the passes, the proposed Templeton Gap District viticultural area is windier than the other lowland areas of the Paso Robles viticultural area, with moderate sea breezes and regular, light mountain-valley breezes.

The cool climate of the proposed Templeton Gap District viticultural area increases the ripening period for grapes, resulting in harvest dates of approximately 10 to 14 days later than other areas in the Paso Robles viticultural area, which allows flavors to fully develop in the grapes. Also, given the sea breeze influence in the region, slope angle and aspect are important factors in determining the suitability of vineyard sites for different grape varieties.

Topography

The proposed Templeton Gap District viticultural area is located east of an area of the Santa Lucia Range where the crest of the mountain range is lower in altitude and the range contains an erosional landform known as a “water gap” west of the town of Templeton. This gap consists of several passes through the Santa Lucia Range formed by streams carving into the soft rocks of the Monterey Formation near the heads of their watersheds. The proposed viticultural area's location near this gap contributes greatly to the cool, marine climate and the later harvest time of the proposed viticultural area.

The proposed Templeton Gap District viticultural area also is characterized by the broad terraces created by Paso Robles Creek and the Salinas River, which deposited a deep veneer of alluvium over the area's bedrock. Although elevations within the proposed Templeton Gap District viticultural area range from approximately 1,800 feet in the ridgelines to the west and southwest to 700 feet along the Salinas River, terraces with elevations of approximately 760-960 feet dominate the terrain. Most of the proposed viticultural area's vineyards are planted at elevations of 800-940 feet on south-facing hillsides in order to benefit from the cooling maritime air as it enters the proposed viticultural area through the gap in the Santa Lucia Range.

Soils

The soils of the proposed Templeton Gap District area viticultural area have shallow to moderate rooting depths, moderate water stress, and modest nutrient levels. Partially cemented shaly, alluvial soils derived from the Paso Robles Formation are located on the stream terraces and on sections of older alluvial fans. The soil textures are predominantly silt loams, silty clays, clay loams, and sandy loams (with some units gravelly). Although some of the soils have slightly acidic topsoils (A horizons with pH values of 6.1 to 6.8), and others are neutral to slightly alkaline even at the surface (with shallow A horizon pH values of 7.0 to 7.8), almost all soils are alkaline at depth, with common pH values of 7.9-8.4. The most common soil order is moderately developed Mollisols (where surface humus is abundant), followed by older Vertisols (where pedogenic clay dominates the texture), and younger, poorly developed Entisols closer to streams. According to the petition, the soil characteristics make low vineyard yields common within the proposed Templeton Gap District viticultural area.

Comparison to Adjacent Regions

The chart below summarizes the distinguishing features evidence for the proposed Templeton Gap District viticultural area described above and compares those features to those of the adjacent proposed viticultural areas within the Paso Robles viticultural area.

In addition, part of the western boundary of the proposed Templeton Gap District viticultural area is concurrent with both the western boundary of the Paso Robles viticultural area and the eastern boundary of the York Mountain viticultural area. The York Mountain viticultural area is closer to the Pacific Ocean than the adjacent portion of the proposed Templeton Gap District viticultural area, contains elevations up to 1,500 feet on slopes of the Santa Lucia Mountains, is classified as Winkler region I climate zone, and receives an average of 45 inches of annual rainfall.

The region outside the western portion of the proposed boundary that is not located within the York Mountain viticultural area contains the more mountainous terrain of the Santa Lucia Range, which contrasts to the predominately lower elevation terraces of the proposed Templeton Gap District viticultural area.

Comparison of Proposed Templeton Gap District Viticultural Area to Adjacent Proposed Viticultural Areas
Distinguishing features | Templeton Gap District | To the north: Paso Robles Willow Creek District | To the east: El Pomar District
Winkler Region | Region II | Region II | Moderate Region II.
Maritime Climate * | 1 | 1 | 3.
Precipitation | 20 inches/year | 24-30 inches/year | 15 inches/year.
Topography | Broad terraces in moderate to low elevation area of the Santa Lucia Range with elevations ranging from 700 feet to 1,800 feet (most vineyards at 800-940 feet) | Mountain slopes of Santa Lucia Range to the west of the Salinas River, centered on the Willow Creek tributary to Paso Robles Creek; elevation 960-1,900 (most vineyards at 1,000-1,300 feet) | High, older terraces, fans, and hills; elevation 740-1,600 feet (most vineyards at 840-960 feet).
Soils | Moderate depth, partially cemented alluvial soils on river terraces and sections of older alluvial fans with silt loams, silty clays, clay loams, and sandy loams (with some units gravelly); some with slightly acidic topsoils and others neutral to slightly alkaline at surface (all alkaline at depth) | Mostly shallow calcareous soils of residual (bedrock) origin with shaly clays, clay loams, and rocky loams, with some units gravelly and with patches of alluvial soil along streams; alkaline at depth | Terrace alluvial soils, with sandy, clay, and gravelly loam textures; primarily alkaline.
* Maritime climate indicated on scale from 1 (most maritime) to 8 (more continental).

Comparison of Proposed Viticultural Areas to the Existing Paso Robles and Central Coast Viticultural Areas

Paso Robles Viticultural Area

The Paso Robles viticultural area is broadly characterized by: (1) A Winkler Region III climate with some marine influence that contrasts to the warmer regions to the east and cooler regions to the west; (2) annual rainfall averaging between 10 and 25 inches; (3) a diurnal temperature change of 40 to 50 degrees; (4) rolling hills and valleys with average elevations between 600 to 1,000 feet; and (5) soils that generally formed in alluvial and terrace deposits, and that are fertile and well-drained. Although not all of these characteristics are shared by each of the 11 viticultural areas, as indicated in the table below, each proposed viticultural area shares some of the distinctive characteristics of the larger Paso Robles viticultural area.

Comparison of the Paso Robles Viticultural Area to the Eleven Proposed Viticultural Areas
Viticultural area | Climate | Average annual rainfall | Diurnal growing season temp. change ² | Topography | Soil
Paso Robles ¹ | Maritime climate becoming more continental to the east, with growing degree-day Regions II, III and IV | 8-30 inches | 20-50 degrees | Salinas River and tributary valleys, alluvial terraces, and surrounding mountain slopes; 600-2,400+ feet | Soils both depositional and residual derived from sedimentary rock; moderate depth.
Proposed Adelaida District | Region II-III transitional area | 25 inches | 30 degrees | Santa Lucia Range high mountain slopes grading to foothills; 900-2200 feet | Shallow, bedrock residual soils and patchy colluvial hillside soils from middle member of Monterey Formation and older rocks; largely calcareous soils.
Proposed Creston District | Region III | 11.5 inches | 25 degrees | Old erosional plateau at the base of the La Panza Range; alluvial terraces and fans of Huerhuero Creek; 1,000-2,000 feet | Old, well developed terrace and hillside soils; mix of granitic and sedimentary rocks.
Proposed El Pomar District | Region II | 15 inches | 20-25 degrees | High, older terraces, fans, and hills; 740-1,600 feet | Quaternary alluvial soils, well developed loams to clay loams, some calcareous, with Monterey Formation sandstone and siltstone at depth in some areas.
Proposed Paso Robles Estrella District | Region III | 12.5-15.5 inches | 35-40 degrees | Rolling plains of Estrella River valley and terraces; 745-1819 feet | Quaternary alluvial soils of diverse ages across younger to older terraces, deep to moderate depth, with remnant patches of older valley fill at highest elevations.
Proposed Paso Robles Geneseo District | Region III-IV | 13-14 inches | 20-25 degrees | Upfaulted hills through old river terraces along Huerhuero-La Panza fault; 740-1,300 feet | Old alluvial terrace and residual hillside soils of moderate depth with cementation of the gravelly Paso Robles Formation and older granites.
Proposed Paso Robles Highlands District | Region IV | 12 inches | 50+ degrees | Old Pliocene-Pleistocene erosional surface across the Simmler, Monterey and Paso Robles formations below the La Panza Range; 1,160-2,086 feet | Deep, sometimes cemented alluvial soils; old leached alkaline soils common, with younger sandy soils along active steams.
Proposed Paso Robles Willow Creek District | Region II | 24-30 inches | 20 degrees | High elevation mountainous bedrock slopes across a more erodible member of the Monterey Formation; 960-1,900 feet | Mostly bedrock (residual) soils from the middle and lower members of the Monterey Formation, patches of alluvial soil along streams, largely calcareous, loams to clay loams.
Proposed San Juan Creek | Region III-IV transition | 10.4 inches | 35-40 degrees | San Juan Creek younger river valleys with alluvial terraces and fans as a tributary to the upper Estrella River; 980-1,600 feet | Well to moderately drained, deep alluvial soils, sandy loams to loams to clay loams on the highest, oldest terraces.
Proposed San Miguel District | Region III | 11.4 inches | 30-35 degrees | Footslope of Santa Lucia Range, with alluvial terraces of the Salinas and Estrella rivers and small recent alluvial fans; 580-1,600 feet | Deep, alluvial sandy loams to loams to a few clay loams (some with clay pans) from the river bottoms up onto the higher terraces.
Proposed Santa Margarita Ranch | Region II | 29 inches | 25 degrees | High, steep mountain slopes of ancient Salinas River and upper reaches of incised contemporary Salinas River along the Rinconada Fault; 900-1,400 feet | Deep alluvial soils derived from many lithologies and varying in texture, with patchy residual soils on mountain slopes.
Proposed Templeton Gap District | Region II | 20 inches | 20 degrees | Santa Lucia Range mountain slopes and broad alluvial terraces; elevations 700-1,800 feet | Broad alluvial terraces and fans of Paso Robles Creek and the Salinas River over bedrock; alluvial soils of shallow to moderate depth and sandy to silty to clay loams; calcareous in places.
¹ The PRAVAC petitioners supplied scientific data and other information that was not available to the original Paso Robles viticultural area petitioners in 1983, and that updated information is included in this table.
² The growing season referenced herein is from April 1 to October 31 in a calendar year.

As shown in the above table, all of the 11 proposed viticultural areas have distinguishing features—particularly with regard to climatic features—that generally fall within the broader ranges of the larger Paso Robles viticultural area. Each of the 11 proposed viticultural areas, however, also has distinctive features and a more specific microclimate that distinguish it viticulturally from the larger Paso Robles viticultural area.

Central Coast Viticultural Area

Because the Paso Robles viticultural area is entirely within the larger, multicounty Central Coast viticultural area, each of the 11 proposed viticultural areas would also be located within the Central Coast viticultural area. The Central Coast viticultural area stretches from Santa Barbara County in the south to the San Francisco Bay area in the north and includes the region between the Pacific Coast and the eastern ranges of California's coastal mountains, where the marine influence of the Pacific Ocean impacts local climates more significantly than regions further to the east, such as the San Joaquin Valley. This marine influence is seen in precipitation, heat accumulation, maximum high temperature, minimum low temperature, growing season length, wind, marine fog incursion, and relative humidity data that are significantly different from the more arid regions found to the east of the Coastal Ranges.

In addition, T.D. ATF-216, which established the Central Coast viticultural area, also recognized the existence of microclimates within this relatively large viticultural area. As described above, each of the 11 proposed viticultural areas is affected by the marine influence of the Pacific Ocean, consistent with the distinguishing features of the Central Coast viticultural area. The extent of the marine influence on the climate of each of the proposed viticultural areas varies among the 11 proposed viticultural areas, however, creating distinct microclimates in those regions.

TTB Determination

TTB believes that the evidence presented by the petitioner regarding the various distinguishing features of the 11 proposed viticultural areas, as well as the distinctiveness of those areas as compared to the larger Paso Robles and Central Coast viticultural areas, justify recognition of the Adelaida District, Creston District, El Pomar District, Paso Robles Estrella District, Paso Robles Geneseo District, Paso Robles Highlands District, Paso Robles Willow Creek District, San Juan Creek, San Miguel District, Santa Margarita Ranch, and Templeton Gap District areas as viticultural areas within the existing Paso Robles and Central Coast viticultural areas.

Accordingly, TTB concludes that the petitions to establish the Adelaida District, Creston District, El Pomar District, Paso Robles Estrella District, Paso Robles Geneseo District, Paso Robles Highlands District, Paso Robles Willow Creek District, San Juan Creek, San Miguel District, Santa Margarita Ranch, and Templeton Gap District viticultural areas merit consideration and public comment, as invited in this document.

Impact on Current Wine Labels

Part 4 of the TTB regulations prohibits any label reference on a wine that indicates or implies an origin other than the wine's true place of origin. If TTB establishes the proposed “Adelaida District,” “Creston District,” “El Pomar District,” “Paso Robles Willow Creek District,” “San Juan Creek,” “San Miguel District,” “Santa Margarita Ranch,” or “Templeton Gap District” viticultural areas, the full name of each viticultural area will be recognized as a name of viticultural significance. TTB does not believe that any part of these eight proposed viticultural area names standing alone, such as “Adelaida,” “Creston,” “El Pomar,” “San Juan,” “San Miguel,” “Santa Margarita,” or “Templeton,” would have viticultural significance if the respective viticultural area is established because of the potential for consumer and industry confusion based on the multiple locations in the United States and/or other countries that are referred to or known by the above names. Additionally, TTB does not believe that “Paso Robles Willow Creek,” standing alone, would have viticultural significance with regards to the proposed Paso Robles Willow Creek District viticultural area, because the terms “Paso Robles” and “Willow Creek,” standing alone, both have viticultural significance pursuant to, respectively, 27 CFR 9.84 and 9.85 as names of established viticultural areas. Furthermore, in order to avoid affecting the use of the term “Templeton Gap,” standing alone, in brand names or on wine labels, TTB is not proposing to designate the term “Templeton Gap,” standing alone, as a term of viticultural significance.

If TTB establishes the proposed “Paso Robles Estrella District,” “Paso Robles Geneseo District,” or “Paso Robles Highlands District” viticultural areas, the full name of each viticultural area will be recognized as a name of viticultural significance. In addition, based on the evidence submitted, as well as a review of the information contained in the Geographic Names Information System maintained by the USGS and a general search of relevant Web sites, TTB believes that “Paso Robles Estrella,” “Paso Robles Geneseo,” and “Paso Robles Highlands” are locally and/or nationally known as referring to the region in San Luis Obispo County, California, encompassed by each respective proposed viticultural area, so consumers and vintners could reasonably attribute the quality, reputation, or other characteristic of wine made from grapes grown in the proposed “Paso Robles Estrella District,” “Paso Robles Geneseo District,” or “Paso Robles Highlands District” viticultural areas to these terms. Accordingly, with the establishment of the above three viticultural areas, the terms “Paso Robles Estrella,” “Paso Robles Geneseo,” and “Paso Robles Highlands,” standing alone, will also be considered terms of viticultural significance for each respective viticultural area. TTB notes that the geographical name of “Paso Robles” identifies the existing Paso Robles viticultural area, which is already a term of viticultural significance pursuant to 27 CFR 9.84. TTB does not believe that the terms “Estrella,” “Geneseo,” or “Highlands,” each standing alone, would have viticultural significance if the respective viticultural areas are established because of the potential for consumer and industry confusion based on the multiple locations in the United States and/or other countries that are referred to or known by the above names. Furthermore, in order to avoid affecting the use of the terms “Estrella” or “Geneseo,” each standing alone, in brand names or on wine labels, TTB is not proposing to designate “Estrella” or “Geneseo” as terms of viticultural significance.

Therefore, the eleven proposed 27 CFR part 9 section texts set forth in this document specify, respectively, that “Adelaida District,” “Creston District,” “El Pomar District,” “Paso Robles Estrella District” and “Paso Robles Estrella” standing alone, “Paso Robles Geneseo District” and “Paso Robles Geneseo” standing alone, “Paso Robles Highlands District” and “Paso Robles Highlands” standing alone, “Paso Robles Willow Creek District,” “San Juan Creek,” “San Miguel District,” “Santa Margarita Ranch,” and “Templeton Gap District” are terms of viticultural significance for purposes of part 4 of the TTB regulations. Consequently, if these 11 proposed viticultural areas are established, wine bottlers using any of the above terms in a brand name, including a trademark, or in another label reference as to the origin of the wine, will have to ensure that the product is eligible to use the name of the viticultural area in question as an appellation of origin. TTB notes that the establishment of any or all of these 11 proposed viticultural areas will not affect the established Paso Robles viticultural area or approved labels using the “Paso Robles” name.

For a wine to be labeled with a viticultural area name or with a brand name that includes a viticultural area name or other term identified as being viticulturally significant in part 9 of the TTB regulations, at least 85 percent of the wine must be derived from grapes grown within the area represented by that name or other term, and the wine must meet the other conditions listed in 27 CFR 4.25(e)(3). If the wine is not eligible for labeling with the viticultural area name or other viticulturally significant term and that name or term appears in the brand name, then the label is not in compliance, and the bottler must change the brand name and obtain approval of a new label. Similarly, if the viticultural area name or other viticulturally significant term appears in another reference on the label in a misleading manner, the bottler would have to obtain approval of a new label.

Different rules apply if a wine has a brand name containing a viticultural area name or other term of viticultural significance that was used as a brand name on a label approved before July 7, 1986. See 27 CFR 4.39(i)(2) for details.

Public Participation

Comments Invited

TTB invites comments from interested members of the public on whether TTB should establish any or all of the 11 proposed viticultural areas within the existing Paso Robles viticultural area. TTB is also interested in receiving comments on the sufficiency and accuracy of the names and the climatic, boundary, and other required information submitted in support of the petitions. In addition, given the location of the 11 proposed viticultural areas within the existing Paso Robles and Central Coast viticultural areas, TTB is interested in comments on whether the evidence submitted in the petitions regarding the distinguishing features of the proposed viticultural areas sufficiently differentiates them from the existing Paso Robles and Central Coast viticultural areas. TTB is also interested in comments on whether the geographic features of any of the 11 proposed viticultural areas are so distinguishable from the surrounding Paso Robles and Central Coast viticultural areas that they should no longer be part of those viticultural areas. Finally, TTB is interested in comments regarding whether the portions of the Paso Robles viticultural area that are not contained within any of the 11 proposed viticultural areas have been appropriately excluded from the proposed viticultural areas or whether these excluded areas should be incorporated into any of the proposed viticultural areas. Please provide any available specific information in support of your comments. Also, please identify the specific proposed viticultural area or areas that your comments concern.

Because of the potential impact of the establishment of the eleven proposed viticultural areas on brand labels that include the words “Adelaida District,” “Creston District,” “El Pomar District,” “Paso Robles Estrella District” (or “Paso Robles Estrella” standing alone), “Paso Robles Geneseo District” (or “Paso Robles Geneseo” standing alone), “Paso Robles Highlands District” (or “Paso Robles Highlands” standing alone), “Paso Robles Willow Creek District,” “San Juan Creek,” “San Miguel District,” “Santa Margarita Ranch,” and “Templeton Gap District,” as discussed above under Impact on Current Wine Labels, TTB is particularly interested in comments regarding whether there will be a conflict between the proposed viticultural area names and/or viticulturally significant terms and currently used brand names. If a commenter believes that a conflict will arise, the comment should describe the nature of that conflict, including any negative economic impact that approval of the proposed viticultural area will have on an existing viticultural enterprise. TTB is also interested in receiving suggestions for ways to avoid any conflicts, for example, by adopting a modified or different name for the viticultural area.

Submitting Comments

You may submit comments on this proposal by using one of the following three methods:

• Federal e-Rulemaking Portal: You may send comments via the online comment form posted with this document within Docket No. TTB-2013-0009 on “Regulations.gov,” the Federal e-rulemaking portal, at http://www.regulations.gov. A direct link to that docket is available under Notice No. 140 on the TTB Web site at http://www.ttb.gov/wine/wine-rulemaking.shtml. Supplemental files may be attached to comments submitted via Regulations.gov. For complete instructions on how to use Regulations.gov, visit the site and click on the site's “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200E, Washington, DC 20005.

Please submit your comments by the closing date shown above in this document. Your comments must reference Notice No. 140 and include your name and mailing address. Your comments also must be made in English, be legible, and be written in language acceptable for public disclosure. TTB does not acknowledge receipt of comments, and considers all comments as originals.

In your comment, please indicate if you are speaking on your own behalf or on behalf of an association, business, or other entity. If you are speaking on behalf of an entity, your comment must include the entity's name as well as your name and position title. If you comment via http://www.regulations.gov, please also enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not include, attach, or enclose any material in or with your comments that you consider to be confidential or inappropriate for public disclosure.

Public Disclosure

On the Federal e-rulemaking portal, Regulations.gov, TTB will post, and you may view, copies of this document, selected supporting materials, and any online or mailed comments TTB receives about this. A direct link to the Regulations.gov docket containing this document and the posted comments received on it is available on the TTB Web site at http://www.ttb.gov/wine/wine-rulemaking.shtml under Notice No. 140. You may also reach the docket containing this document and the posted comments received on it through the Regulations.gov search page at http://www.regulations.gov. For instructions on how to use Regulations.gov, visit the site and click on the site's “Help” tab.

All posted comments will display the commenter's name, organization (if any), city, and State, and, in the case of mailed comments, all address information, including email addresses. TTB may omit voluminous attachments or material that TTB considers unsuitable for posting.

You may view copies of this document, all related petitions, maps and other supporting materials, and any electronic or mailed comments TTB receives about this proposal by appointment at the TTB Information Resource Center, 1310 G Street NW., Washington, DC 20005. You may also obtain copies at 20 cents per 8.5- x 11-inch page. Contact the information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866 of September 30, 1993. Therefore, it requires no regulatory assessment.

Drafting Information

The Regulations and Rulings Division staff drafted this document.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

2. Subpart C is amended by adding §§ 9.__ through 9.__ to read as follows:

Subpart C—Approved American Viticultural Areas

§ 9.__ Adelaida District.

(a) Name. The name of the viticultural area described in this section is “Adelaida District”. For purposes of part 4 of this chapter, “Adelaida District” is a term of viticultural significance.

(b) Approved maps. The six United States Geological Survey (USGS) 1:24 000 scale topographic maps used to determine the boundary of the Adelaida District viticultural area are titled:

(1) Paso Robles, Calif., 1948, photorevised 1979;

(2) Templeton, Calif., 1948, photorevised 1979;

(3) York Mountain, Calif., 1948, photorevised 1979;

(4) Cypress Mountain, Calif., 1948, photorevised 1979;

(5) Lime Mountain, Calif., 1948, photorevised 1979; and

(6) Adelaida, Calif., 1948, photorevised 1978.

(c) Boundary. The Adelaida District viticultural area is located in San Luis Obispo County, California. The boundary of the Adelaida District viticultural area is as described below:

(1) The beginning point is on the Paso Robles map at the point where an unnamed light-duty road locally known as Wellsona Road crosses the main channel of the Salinas River, section 4, T26S/R12E. From the beginning point, proceed southerly (upstream) along the main channel of the Salinas River approximately 3.4 miles to the river's first intersection with the city of Paso Robles Corporate Boundary line, T26S/R12E; then

(2) Proceed westerly and then southerly along the meandering city of Paso Robles Corporate Boundary line, crossing onto the Templeton map, to the boundary line's intersection with Peachy Canyon Road, T26S/R12E; then

(3) Proceed westerly on Peachy Canyon Road approximately 2.6 miles, crossing to and from the Paso Robles map, to the road's intersection with an unnamed intermittent stream at the 1,100-foot elevation line near the center of section 36, T26S/R11; then

(4) Proceed south-southeasterly (downstream) along the unnamed intermittent stream approximately 1.2 miles to the stream's intersection with the R11E/R12E common boundary line, section 1, T27S/R11E; then

(5) Proceed south along the R11E/R12E common boundary line approximately 0.15 mile to the line's intersection with an unnamed light-duty road locally known as Kiler Canyon Road, section 1, T27S/R11E; then

(6) Proceed westerly on the light-duty and then unimproved Kiler Canyon Road approximately 4 miles, crossing onto the York Mountain map, to the road's intersection with Summit Canyon Road (locally known as Peachy Canyon Road), section 33, T26S/R11E; then

(7) Proceed southwesterly on Summit Canyon Road (locally known as Peachy Canyon Road) approximately 3.5 miles to the road's intersection with Willow Creek Road (locally known as Vineyard Drive), T27S/R11E; then

(8) Proceed southerly on Willow Creek Road (locally known as Vineyard Drive) approximately 0.4 mile to the road's intersection with Dover Canyon Road, T27S/R11E; then

(9) Proceed westerly on Dover Canyon Road approximately 2.8 miles to the road's intersection with an intermittent stream and an unnamed jeep trail in Dover Canyon, section 14, T27S/R10E; then

(10) Proceed west-northwesterly in a straight line approximately 5.7 miles, crossing onto the Cypress Mountain map, to the R9E/R10E common boundary line at the northwest corner of section 6, T27S/R10E; then

(11) Proceed north along the R9E/R10E common boundary line approximately 6.5 miles, crossing onto the Lime Mountain map, to the line's intersection with the second unnamed intermittent stream that crosses the western boundary line of section 31, T25S/R10E; then

(12) Proceed easterly in a straight line approximately 0.45 mile to a marked 1,165-foot peak in section 31, T25S/R10E, and then continue easterly in a straight line approximately 0.8 mile to the marked 1,135-foot peak in section 32, T25S/R10E; then

(13) Proceed due east-northeasterly in a straight line approximately 0.3 mile to the line's intersection with Dip Creek, section 32, T25S/R10E; then

(14) Proceed southeasterly and then easterly along Dip Creek approximately 6 miles, crossing onto the Adelaida map, to the creek's intersection with San Miguel Road (locally known as Chimney Rock Road), section 13, T26S/R10E; then

(15) Proceed easterly on San Miguel Road (locally known as Chimney Rock Road, then Nacimiento Lake Drive, then Godfrey Road, and then San Marcos Road) approximately 8.6 miles, crossing onto the Paso Robles map, to the road's intersection with an unnamed light-duty road locally known as Wellsona Road, section 6, T26S/R12E; then

(16) Proceed southeasterly and then easterly on Wellsona Road approximately 2.0 miles, returning to the beginning point.

§ 9.__ Creston District.

(a) Name. The name of the viticultural area described in this section is “Creston District”. For purposes of part 4 of this chapter, “Creston District” is a term of viticultural significance.

(b) Approved maps. The five United States Geological Survey (USGS) 1:24,000 scale topographic maps used to determine the boundary of the Creston District viticultural area are titled:

(1) Creston, Calif., 1948, photorevised 1980;

(2) Shedd Canyon, Calif., 1961;

(3) Wilson Corner, CA, 1995;

(4) Camatta Ranch, CA, 1995; and

(5) Santa Margarita, Calif., 1965, revised 1993.

(c) Boundary. The Creston District viticultural area is located in San Luis Obispo County, California. The boundary of the Creston District viticultural area is as described below:

(1) The beginning point is located on the Creston map along the common boundary line of the Huerhuero Land Grant and section 34, T27S/R13E, at the eastern-most intersection of State Route 41 and an unnamed light-duty road locally known as Cripple Creek Road. From the beginning point, proceed northerly on Cripple Creek Road approximately 1 mile to the road's intersection with an unnamed light duty road locally known as El Pomar Drive (at BM 1052), section 27, T27S/R13E; then

(2) Proceed northeasterly in a straight line approximately 0.75 mile to the unnamed 1,142-foot elevation point, T27S/R13E; then

(3) Proceed north in a straight line approximately 1.2 miles to the line's intersection with an unnamed light duty road locally known as Creston Road at the southwest corner of section 14, T27S/R13E; then

(4) Proceed east on Creston Road approximately 0.35 mile to the road's intersection with an unnamed light-duty road known locally as Geneseo Road (at BM 1014), T27S/R13E; then

(5) Proceed north-northwesterly on Geneseo Road approximately 0.7 mile to the road's intersection with a jeep trail (locally known as Rancho Verano Place) and the western boundary line of section 14, T27S/R13E; then

(6) Proceed due east in a straight line approximately 0.2 mile to the line's intersection with the Huerhuero Land Grant boundary line, section 14, T27S/R13E;

(7) Proceed north-northeasterly along the Huerhuero Land Grant boundary line approximately 0.7 mile to the land grant's northern-most point, and then continue east-southeasterly along the land grant's boundary line approximately 0.4 mile to the line's intersection with the northern boundary line of section 14, T27S/R13E; then

(8) Proceed east approximately 1.3 miles along the northern boundary lines of sections 14 and 13, T27S/R13E, and continue east approximately 0.25 mile along the northern boundary line of section 18, T27S/R14E, to the T-intersection of two unnamed unimproved roads; then

(9) Proceed east-southeasterly on the generally east-west unnamed unimproved road approximately 0.85 mile, crossing onto the Shedd Canyon map, to the road's intersection with the eastern boundary line of section 18, T27S/R14E; then

(10) Proceed southeasterly in a straight line approximately 1.2 miles to the 1,641-foot elevation point located at the southeast corner of section 17, T27S/R14E; then

(11) Proceed southeasterly approximately 0.55 mile in a straight line to BM 1533 (located beside Creston Shandon Road (State Route 41)) and continue southeasterly in a straight line approximately 1.25 miles to the 1,607 elevation point near the western boundary line of section 27, T27S/R14E; then

(12) Proceed east-southeasterly in a straight line approximately 1.1 miles to the 1.579-foot elevation point at the southeast corner of section 27, T27S/R14E; then

(13) Proceed east approximately 1.9 miles along the northern boundary lines of sections 35 and 36, T27S/R14E, to the section 36 boundary line's intersection with Indian Creek; then

(14) Proceed southerly (upstream) along Indian Creek approximately 5.3 miles in straight-line distance, crossing onto the Wilson Corner map, to the creek's intersection with an unnamed light-duty road locally known as La Panza Road, section 20, T28S/R15E; then

(15) Proceed southeasterly on La Panza Road approximately 0.15 mile to the road's intersection with State Route 58 at Wilson Corner, section 29, T28S/R15E; then

(16) Proceed easterly on State Route 58 approximately 1.4 miles, crossing onto the Camatta Ranch map, to the road's intersection with the eastern boundary line of section 28, T28S/R15E; then

(17) Proceed south approximately 1.5 miles along the eastern boundary lines of sections 28 and 33, T28S/R15E, to the T28S/T29S common boundary line at the southeast corner of section 33, T28S/15E; then

(18) Proceed west along the T28S/T29S common boundary line approximately 8.5 miles, crossing over the Wilson Corner map and onto the Santa Margarita map, to the boundary line's intersection with the Middle Branch of Huerhuero Creek, section 31, T28S/R14E; then

(19) Proceed north-northwesterly (downstream) along the Middle Branch of Huerhuero Creek approximately 2.3 miles in straight-line distance to the creek's intersection with the southern boundary line of section 24, T28S/R13E; then

(20) Proceed west along the southern boundary line of section 24, T28S/R13E, approximately 0.45 mile to that section's southwestern corner; then

(21) Proceed north along the western boundary line of section 24, T28S/R13E, approximately 1.0 mile to the boundary line's intersection with an unnamed unimproved road at the section's northwestern corner; then

(22) Proceed northwesterly on the unnamed unimproved road approximately 0.7 mile to the road's intersection with State Route 229 near BM 1138, section 14, T28S/R13E; then

(23) Proceed northeasterly on State Route 229 approximately 0.2 mile to the road's intersection with the Huerhuero Land Grant boundary line, section 14, T28S/R13E; and

(24) Proceed north-northwesterly along the boundary of the Huerhuero Land Grant approximately 3 miles, crossing onto the Creston map and returning to the beginning point.

§ 9.__ El Pomar District.

(a) Name. The name of the viticultural area described in this section is “El Pomar District”. For purposes of part 4 of this chapter, “El Pomar District” is a term of viticultural significance.

(b) Approved maps. The two United States Geological Survey (USGS) 1:24,000 scale topographic maps used to determine the boundary of the El Pomar District viticultural area are titled:

(1) Templeton, Calif., 1948, photorevised 1979; and

(2) Creston, Calif., 1948, photorevised 1980.

(c) Boundary. The El Pomar District viticultural area is located in San Luis Obispo County, California. The boundary of the El Pomar District viticultural area is as described below:

(1) The beginning point is on the southeastern portion of the Templeton map at the intersection of State Route 41 and an unnamed light-duty road locally known as Homestead Road, east-northeast of Atascadero within the Asuncion Land Grant. From the beginning point, proceed north-northwesterly on Homestead Road approximately 1.1 miles to the road's intersection with an unnamed light-duty road locally known as South El Pomar Road, Asuncion Land Grant; then

(2) Proceed north-northwesterly in a straight line approximately 0.8 mile to the 1,452-foot elevation point, and continue north-northwesterly in a straight line approximately 0.3 mile to an unnamed peak above the 1,440-foot elevation line (marked on the map by a triangle), Asuncion Land Grant; then

(3) Proceed northeasterly in a straight line approximately 0.3 mile to the 1,344-foot elevation point, Asuncion Land Grant; then

(4) Proceed northerly in a series of straight lines, totaling approximately 1.4 miles, through the 1,338-foot and 1,329-foot elevation points to the intersection of two unnamed light-duty roads locally known as El Pomar Drive and Hollyhock Lane in the Santa Ysabel Land Grant, T27S/R12E; then

(5) Proceed north-northwesterly on Hollyhock Lane approximately 1 mile to the road's intersection with an unnamed light-duty road locally known as Neal Springs Road, Santa Ysabel Land Grant; then

(6) Proceed west on Neal Springs Road approximately 0.4 mile to the road's intersection with an unnamed light-duty road locally known as South River Road, Santa Ysabel Land Grant; then

(7) Proceed northwesterly and then northerly on South River Road approximately 2.8 miles to the road's intersection with an unnamed light-duty road locally known as Charolais Road (0.1 mile north of a marked windmill), Santa Ysabel Land Grant; then

(8) Proceed east-southeasterly on Charolais Road approximately 1.4 miles to the road's intersection with an unnamed light-duty road locally known as Creston Road, Santa Ysabel Land Grant; then

(9) Proceed north on Creston Road approximately 1.6 miles to the road's intersection with an unnamed unimproved road to the east locally known as Grand Canyon Drive, and then continue due north in a straight line approximately 0.15 mile to a marked east-west telephone line, Santa Ysabel Land Grant; then

(10) Proceed easterly in a straight line approximately 2 miles, crossing onto the Creston map, to the line's intersection with the point where the R12E/R13E common boundary line crosses Huerhuero Creek, western boundary line of section 31, T26S/R13E; then

(11) Proceed southeasterly (upstream) along Huerhuero Creek approximately 2.4 miles to the creek's first confluence with an unnamed intermittent stream in the northwest quadrant of section 8, T27S/R13E; then

(12) Proceed southeasterly in a straight line approximately 1.4 miles to the 1,255-foot elevation point in the northwest quadrant of section 16, T27S/R13E; then

(13) Proceed easterly in a straight line approximately 0.75 mile to an unnamed peak above the 1,380-foot elevation line (marked on the map with a triangle), section 16, T27S/R13E; then

(14) Proceed east-southeasterly in a straight line approximately 0.6 mile to the 1,342-foot elevation point in section 15, T27S/R13E, and then continue east-southeasterly in a straight line approximately 0.6 mile to the northern end of an unnamed light-duty road locally known as Branbrit Road, section 15, T27S/R13E; then

(15) Proceed south on Branbrit Road approximately 0.3 mile to the road's intersection with an unnamed light-duty road locally known as Creston Road, section 15, T27S/R13E; then

(16) Proceed east on Creston Road approximately 0.2 mile to the road's intersection with northeast corner of section 22, T27S/R13E; then

(17) Proceed southerly in a straight line approximately 1.2 miles to the 1,142 elevation point in the Huerhuero Land Grant (0.1 mile south of a pipe line), T27S/R13E; then

(18) Proceed southwesterly in a straight line approximately 0.75 mile to BM 1052 located at the intersection of two unnamed light-duty roads locally known locally as El Pomar Drive and Cripple Creek Road, section 27 T27S/R13E; then

(19) Proceed south on Cripple Creek Road approximately 1.0 mile to the road's eastern-most intersection with State Route 41, section 34, T27S/R13E; then

(20) Proceed southwesterly on State Route 41 approximately 6.1 miles, crossing onto the Templeton map and returning to the beginning point.

§ 9.__ Paso Robles Estrella District.

(a) Name. The name of the viticultural area described in this section is “Paso Robles Estrella District”. For purposes of part 4 of this chapter, “Paso Robles Estrella District” and “Paso Robles Estrella” are terms of viticultural significance.

(b) Approved maps. The five United States Geological Survey 1:24,000 scale topographic maps used to determine the boundary of the Paso Robles Estrella District viticultural area are titled:

(1) Paso Robles, Calif., 1948, photorevised 1979;

(2) San Miguel, Calif., 1948, photorevised 1979;

(3) Ranchito Canyon, Calif., 1948, photorevised 1976;

(4) Estrella, Calif., 1948, photorevised 1979; and

(5) Shandon, Calif., 1961.

(c) Boundary. The Paso Robles Estrella District is located in San Luis Obispo County, California. The boundary of the Paso Robles Estrella District is as described below:

(1) The beginning point is on the Paso Robles map at the confluence of San Jacinto Creek and the Estrella River, section 26, T25S/R12E. From the beginning point, proceed north-northeasterly (upstream) along San Jacinto Creek approximately 6.5 miles, crossing onto the San Miguel map, to the creek's intersection with the San Luis Obispo County-Monterey County boundary line, northern boundary of section 1, T25S/R12E; then

(2) Proceed east along the San Luis Obispo County-Monterey County boundary line approximately 2.4 miles, crossing onto the Ranchito Canyon map, to the county line's intersection with an unnamed light-duty road locally known as Ranchita Canyon Road, northern boundary of section 4, T25S/R13E; then

(3) Proceed east-southeasterly in a straight line approximately 4.5 miles to the 1,819-foot elevation point in the northwestern quadrant of section 18, T25S/R14E; then

(4) Proceed southeasterly in a straight line approximately 1.6 miles, crossing over the northeastern corner of the Estrella map and then onto the Shandon map, to the 1,614-foot elevation point in the northwestern quadrant of section 20, T25S/R14E; then

(5) Proceed southeasterly in a straight line approximately 1.05 miles to the 1,601-foot elevation point in the northeastern quadrant of section 29, T25S/R14E; then

(6) Proceed east-southeasterly in a straight line approximately 2.2 miles to the 1,562-foot elevation point, section 34, T25S/R14E; then

(7) Proceed south-southeasterly in a straight line approximately 3 miles to the 1,481-foot “Estrella” elevation point, section 14, T26S/R14E; then

(8) Proceed southwesterly in a straight line approximately 0.95 mile to the intersection of the eastern boundary line of section 15, T26S/R14E, and U.S. 446/State Route 41 (now known as State Route 46); then

(9) Proceed south along the eastern boundary lines of sections 15 and 22, approximately 0.55 mile, to the intersection of the section 22 boundary line and the unnamed intermittent stream that flows from Shedd Canyon, section 22, T26S/R14E; then

(10) Proceed southeasterly and then southerly (upstream) along the unnamed intermittent stream located within Shedd Canyon approximately 1.9 miles to the stream's intersection with the southern boundary line of section 26, T26S/R14E; then

(11) Proceed west along the southern boundary lines of sections 26, 27 and 28, T26S/R14E, approximately 1.9 miles to the section 28 boundary line's intersection with an unnamed unimproved road located between the 1,220- and 1,240-foot contour lines, section 28, T26S/R14E;

(12) Proceed southwesterly along the unnamed unimproved road approximately 0.4 miles to a fork and then continue on the westerly fork of the unnamed unimproved road approximately 0.3 miles to the 1,385-foot elevation point, section 32, T26S/R14E; then

(13) Proceed west-northwesterly in a straight line approximately 1.6 miles, crossing onto the Estrella map, to the line's intersection with an unnamed unimproved road and the southern boundary of section 30, T26R/R14E; then

(14) Proceed northerly along the unnamed unimproved road approximately 2.0 miles to the road's intersection with an unnamed light-duty road known locally as River Grove Drive in Whitley Gardens, T26S/R14E; then

(15) Proceed westerly in a straight line less than 0.1 mile to the intersection of the western boundary line of section 19, T26S/R14E and State Route 46, and then continue west on State Route 46 approximately 2.1 miles to the southwest corner of section 14, T26S/R13E; then

(16) Proceed west along the southern boundary lines of sections 14, 15, 16, 17, and 18 (largely concurrent with State Route 46) approximately 4 miles to the southwest corner of section 18, T26S/R13E; then

(17) Proceed southwest in a straight line approximately 1.45 miles, crossing onto the Paso Robles map, to the line's intersection with State Route 46 at the southwestern corner of section 24, T26S/R12E; then

(18) Proceed west on State Route 46 approximately 2.4 miles to the road's intersection with the Salinas River at the city of Paso Robles, T26S/R12E; then

(19) Proceed northerly (downstream) along the main channel of the Salinas River approximately 5.2 miles in straight-line distance to the river's intersection with the northern boundary line of section 33, T25S/R12E; then

(20) Proceed east along the northern boundary lines of sections 33, 34, and 35, T25S/R12E, approximately 1.8 miles to the intersection of the section 35 boundary line with the Estrella River; then

(21) Proceed northerly (downstream) along the main channel of the Estrella River approximately 0.7 mile, returning to the beginning point.

§ 9.__ Paso Robles Geneseo District.

(a) Name. The name of the viticultural area described in this section is “Paso Robles Geneseo District”. For purposes of part 4 of this chapter, “Paso Robles Geneseo District” and “Paso Robles Geneseo” are terms of viticultural significance.

(b) Approved maps. The four United States Geological Survey 1:24,000 scale topographic maps used to determine the boundary of the Paso Robles Geneseo District viticultural area are titled:

(1) Paso Robles, Calif., 1948, photorevised 1979;

(2) Estrella Calif., 1948; photorevised 1979;

(3) Creston, Calif., 1948; photorevised 1980; and

(4) Templeton, Calif., 1948; photorevised 1979.

(c) Boundary. The Paso Robles Geneseo District is located in San Luis Obispo County, California. The boundary of the Paso Robles Geneseo District is as described below:

(1) The beginning point is on the Paso Robles map at the intersection of State Route 46 and Golden Hill Road at the northwest corner of section 26, T26S/R12E. From the beginning point, proceed east on State Route 46 for 1 mile to the southwest corner of section 24, T26S/R12E; then

(2) Proceed northeast in a straight line approximately 1.45 miles, crossing onto the Estrella map, to the northwest corner of section 19, T26S/R13E; then

(3) Proceed east along the northern boundary lines of sections 19 and 20, T26S/R13E, to the section 20 boundary line's intersection with State Route 46 and then continue east on State Route 46 to the road's intersection with the eastern boundary line of section 24, T26S/R13E; then

(4) Proceed easterly in a straight line less than 0.1 mile to the intersection of an unnamed light duty road locally known as River Grove Drive and an unnamed unimproved road in Whitley Gardens, section 19, T26S/R14E; then

(5) Proceed south on the unnamed unimproved road approximately 2 miles to the road's intersection with the southern boundary line of section 30, T26S/R14E; then

(6) Proceed west-southwesterly in a straight line approximately 1.9 miles, crossing onto the Creston map, to the intersection of an unnamed light duty road locally known as Geneseo Road and an unnamed unimproved road locally known as Dry Canyon Road (just east of a windmill within Dry Canyon), section 35, T26S/R13E; then

(7) Proceed south on Geneseo Road approximately 1 mile to the road's intersection with the eastern boundary line of section 3, T27S/R13E (near BM 1200); then

(8) Proceed south along the eastern boundary lines of sections 3, 10, and 15, T27S/R13E, approximately 1.9 miles to the first intersection of the section 15 eastern boundary line with the unnamed light-duty road locally known as Geneseo Road, section 15, T27S/R13E; then

(9) Proceed south-southeasterly on Geneseo Road approximately 0.85 mile to the road's intersection with an unnamed light duty road locally known as Creston Road, Huerhuero Land Grant, T27S/R13E; then

(10) Proceed west on Creston Road 0.5 mile to the road's intersection with an unnamed light duty road locally known as Branbrit Road, southern boundary of section 15, T27S/R13E; then

(11) Proceed north on Branbrit Road approximately 0.3 mile to the road's end, section 15, T27S/R13E; then

(12) Proceed west-northwesterly in a straight line approximately 0.6 mile to the 1,342 foot elevation point in section 15, T27S/R13E, and then continue west-northwesterly in a straight line approximately 0.6 mile to an unnamed peak above the 1,380-foot elevation line (marked on the map with a triangle), section 16, T27S/R13E; then

(13) Proceed westerly in a straight line approximately 0.75 mile to the 1,255-foot elevation point in the northwest quadrant of section 16, T27S/R13E; then

(14) Proceed northwesterly in a straight line approximately 1.4 miles to the confluence of Huerhuero Creek and an unnamed intermittent stream in the northwest quadrant of section 8, T27S/R13E; then

(15) Proceed northwesterly (downstream) along Huerhuero Creek approximately 2.4 miles to the creek's intersection with the R12E/R13E common boundary line, section 31, T26S/R13E; then

(16) Proceed westerly in a straight line approximately 2.3 miles, crossing onto the Templeton map, to the line's intersection with the junction of a marked telephone line and an unnamed light duty road locally known as Creston Road (approximately 1.3 miles due east of U.S. Route 101 in the Santa Ysabel Land Grant, T26S/R12E; then

(17) Proceed west on Creston Road approximately 0.05 mile to the road's intersection with an unnamed light-duty road locally known as Rolling Hills Road, Santa Ysabel Land Grant; then

(18) Proceed north on Rolling Hills Road, crossing onto the Paso Robles map (where a portion of Rolling Hills Road is labeled Golden Hill Road), and continue north on Rolling Hills Road and then Golden Hill Road (a total distance of approximately 1.5 miles), returning to the beginning point.

§ 9.__ Paso Robles Highlands District.

(a) Name. The name of the viticultural area described in this section is “Paso Robles Highlands District”. For purposes of part 4 of this chapter, “Paso Robles Highlands District” and “Paso Robles Highlands” are terms of viticultural significance.

(b) Approved maps. The six United States Geological Survey 1:24,000 scale topographic maps used to determine the boundary of the Paso Robles Highlands District viticultural area are titled:

(1) Camatta Ranch, CA, 1995;

(2) Wilson Corner, CA, 1995;

(3) Shedd Canyon, Calif., 1961, revised 1993;

(4) Camatta Canyon, Calif., 1961, revised 1993;

(5) Holland Canyon, Calif., 1961, revised 1993; and

(6) La Panza Ranch, CA, 1995.

(c) Boundary. The Paso Robles Highlands District viticultural area is located in San Luis Obispo County, California. The boundary of the Paso Robles Highlands District viticultural area is as described below:

(1) The beginning point is on the Camatta Ranch map along the T28S/T29S common boundary line (also concurrent with the northern boundary line of the Los Padres National Forest) at the southwest corner of section 34, T28S/R15E. From the beginning point, proceed north along the western boundary lines of sections 34 and 27, T28S/R15E, approximately 1.5 miles to the section 27 boundary line's intersection with State Route 58; then

(2) Proceed west on State Route 58 approximately 1.5 miles, crossing onto the Wilson Corner map, to the road's intersection with an unnamed light-duty road known locally as La Panza Road at Wilson Corner, section 29, T28S/R15E; then

(3) Proceed northwest on the unnamed light-duty road known locally as La Panza Road approximately 0.15 mile to the road's intersection with Indian Creek, section 20, T28S/R15E;

(4) Proceed north-northwesterly (downstream) along the meandering Indian Creek approximately 8.5 miles in straight-line distance, crossing onto the Shedd Canyon map, to the creek's intersection with the northern boundary line of section 13, T27S/R14E, within Shedd Canyon; then

(5) Proceed east approximately 6.2 miles along the northern boundary line of section 13, T27S/R14E, and the northern boundary lines of sections 18, 17, 16, 15, 14, and 13, T27S/R15E, crossing onto the Camatta Canyon map, to the intersection of the northern boundary line of section 13, T27S/R15E, with the 1,200-foot elevation line on the western edge of the San Juan Valley; then

(6) Proceed southerly then easterly along the 1,200-foot elevation line to the elevation line's first intersection with the eastern boundary line of section 13, T27S/R15E; then

(7) Proceed south along the eastern boundary line of section 13, T27S/R15E, approximately 0.2 mile to the section 13 boundary line's second intersection with an unnamed unimproved road; then

(8) Proceed southeasterly on the unnamed unimproved road approximately 3 miles as it follows the southwestern edge of the San Juan Valley to the road's intersection with the eastern boundary line of section 29, T27S/R16E; then

(9) Proceed south along the eastern boundary line of section 29, T27S/R16E, approximately 0.15 mile to the section line's intersection with the 1,300-foot elevation line; then

(10) Proceed southeasterly along the 1,300-foot elevation line approximately 3.7 miles as it follows the southwestern edge of the San Juan Valley, crossing onto the Holland Canyon map, to the elevation line's first intersection with the eastern boundary line of section 3, T28S/R16E; then

(11) Proceed south along the eastern boundary line of section 3, T28S/R16E, approximately 0.55 mile to the section boundary line's fifth intersection with the 1,300-foot elevation line (northwest of Pear Tree Spring); then

(12) Proceed southeasterly along the 1,300-foot elevation line approximately 1.3 miles to the elevation line's intersection with an unnamed tributary of San Juan Creek (approximately 0.35 mile east of the 1,686-foot San Juan peak), section 11, T28S/R16E; then

(13) Proceed southerly in a straight line approximately 0.6 mile, crossing onto the La Panza Ranch map, to the northwestern corner of section 13, T28S/R16E; then

(14) Proceed east along the northern boundary line of section 13, T28S/R16E, approximately 0.7 mile to the section boundary line's intersection with an unnamed unimproved road; then

(15) Proceed south-southeasterly on the unnamed unimproved road approximately 0.85 mile to the road's intersection with the eastern boundary line of section 13, T28S/R16E, which is concurrent with the R16E/R17E common boundary line; then

(16) Proceed south along the R16E/R17E common boundary line approximately 3.35 miles to the southeast corner of section 36, T28S/R16E, which is concurrent with the eastern-most intersection of the R16E/R17E and T28S/T29S common boundary lines; then

(17) Proceed west along the T28S/R29S common boundary line approximately 9.1 miles, crossing onto the Camatta Ranch map, returning to the beginning point.

§ 9.__ Paso Robles Willow Creek District.

(a) Name. The name of the viticultural area described in this section is “Paso Robles Willow Creek District”. For purposes of part 4 of this chapter, “Paso Robles Willow Creek District” is a term of viticultural significance.

(b) Approved maps. The three United States Geological Survey 1:24,000 scale topographic maps used to determine the boundary of the Paso Robles Willow Creek District viticultural area are titled:

(1) York Mountain, Calif., 1948, photorevised 1979;

(2) Templeton, Calif., 1948, photorevised 1979; and

(3) Paso Robles, Calif. 1948, photorevised 1979.

(c) Boundary. The Paso Robles Willow Creek District is located in San Luis Obispo County, California. The boundary of the Paso Robles Willow Creek District is as follows:

(1) The beginning point is on the York Mountain map at the intersection of Summit Canyon Road (locally known as Peachy Canyon Road), and an unnamed unimproved road locally known as Kiler Canyon Road, section 33, T26S/R11E. From the beginning point, proceed southerly and then southwesterly on Summit Canyon Road (locally known as Peachy Canyon Road) approximately 3.3 miles to the road's intersection with Willow Canyon Road (locally known as Vineyard Drive), Paso de Robles Land Grant; then

(2) Proceed southerly on Willow Creek Road (locally known as Vineyard Drive) approximately 0.35 mile to its intersection with Dover Canyon Road; then

(3) Proceed westerly then southerly on Dover Canyon Road approximately 1 mile to the road's intersection with the common boundary line of section 18, T27S/R11E, and the Paso de Robles Land Grant; then

(4) Proceed east, south, and southeast along the Paso de Robles Land Grant Boundary line approximately 1.9 miles to the fourth crossing of an unnamed intermittent tributary of Jack Creek by the common boundary line of section 20, T27S/R11E, and the Paso de Robles Land Grant; then

(5) Proceed northerly (downstream) along the unnamed intermittent tributary of Jack Creek approximately 0.15 mile to the tributary's confluence with Jack Creek, Paso de Robles Land Grant; then

(6) Proceed southeasterly (downstream) along Jack Creek approximately 1.8 miles to the creek's intersection with an unnamed light-duty road locally known as Jack Creek Road (near BM 920), Paso de Robles Land Grant; then

(7) Proceed northeasterly and then east-southeasterly along Jack Creek Road approximately 1 mile to the road's intersection with State Route 46; then

(8) Proceed east on State Route 46 approximately 0.15 mile to the road's intersection with an unnamed light-duty road locally known as Hidden Valley Road, Paso de Robles Land Grant; then

(9) Proceed southeasterly and then easterly on Hidden Valley Road approximately 2.2 miles, crossing onto the Templeton map, to the road's intersection with an unnamed light-duty road locally known as Vineyard Drive, Paso de Robles Land Grant; then

(10) Proceed east on Vineyard Drive approximately 0.85 mile to the road's intersection with an unnamed light-duty road locally known as S. Bethel Road, Paso de Robles Land Grant; then

(11) Proceed north-northeasterly on S. Bethel Road and then N. Bethel Road approximately 1.7 miles to the road's fifth intersection with an unnamed intermittent stream, Paso de Robles Land Grant; then

(12) Proceed westerly (upstream) along the unnamed intermittent stream and then the stream's middle branch approximately 1.1 miles to the marked end of the stream, and then continue due west in a straight line approximately 0.05 mile to State Route 46 (Cayucos Road), Paso de Robles Land Grant; then

(13) Proceed northeasterly on State Route 46 (Cayucos Road) approximately 0.8 mile to BM 924, Paso de Robles Land Grant; then

(14) Proceed due north in a straight line to the southeast corner of section 12, T27S/R11E, and continue north along the eastern boundary line of section 12, a total of approximately 1.1 miles, to the section boundary line's intersection with a light-duty road locally known as Live Oak Road; then

(15) Proceed easterly on Live Oak Road approximately 0.2 mile to the road's intersection with an unnamed intermittent stream, Paso de Robles Land Grant; then

(16) Proceed northwesterly (upstream) along the unnamed intermittent stream approximately 0.35 mile to the eastern boundary line of section 12, T27S/R11E; then

(17) Proceed north along the eastern boundary line of section 12, T27S/R11E, to the section's northeast corner, and then proceed east along the southern boundary line of section 6, T27S/R11E, a total of approximately 1.3 miles, to the intersection of the section 6 boundary line with an unnamed light-duty road locally known as Arbor Road; then

(18) Proceed south-southeasterly on Arbor Road approximately 0.35 mile to the road's first intersection with an unnamed intermittent stream, Paso de Robles Land Grant; then

(19) Proceed southeasterly and then easterly (downstream) along the unnamed intermittent stream approximately 1.4 miles to the stream's intersection with an unnamed light-duty road known locally as S. Vine Street, just west of the U.S. 101/State Route 46 interchange, Paso de Robles Land Grant; then

(20) Proceed northerly along S. Vine Street (which generally parallels U.S. 101) approximately 1.8 miles to the street's intersection with the marked city of Paso Robles Corporate Boundary line (concurrent with the locally-known intersection of S. Vine and 1st Streets), Paso de Robles Land Grant; then

(21) Proceed west, north, west, and north again along the marked city of Paso Robles Corporate Boundary line approximately 1 mile to the boundary line's junction with the intersection of an unnamed light-duty road locally known as Merry Hill Road and Peachy Canyon Road, Paso de Robles Land Grant; then

(22) Proceed westerly on Peachy Canyon Road approximately 2.6 miles, crossing to and from the Paso Robles map, to the road's intersection with an unnamed intermittent stream near the center of section 36, T26S/R11E; then

(23) Proceed south-southeasterly (downstream) along the unnamed intermittent stream approximately 1.2 miles to the stream's intersection with the eastern boundary line of section 1, T27S/R11E; then

(24) Proceed south along the eastern boundary line of section 1, T27S/R11E, approximately 0.15 mile to the line's intersection with an unnamed light-duty road locally known as Kiler Canyon Road, section 1, T27S/R11E; then

(25) Proceed westerly on Kiler Canyon Road approximately 3.7 miles, crossing onto the York Mountain map, returning to the beginning point.

§ 9.__ San Juan Creek.

(a) Name. The name of the viticultural area described in this section is “San Juan Creek”. For purposes of part 4 of this chapter, “San Juan Creek” is a term of viticultural significance.

(b) Approved maps. The six United States Geological Survey 1:24,000 scale topographic maps used to determine the boundary of the San Juan Creek viticultural area are titled:

(1) Cholame, Calif., 1961, revised 1993;

(2) Camatta Canyon, Calif., 1961, revised 1993;

(3) Holland Canyon, Calif. 1961, revised 1993;

(4) La Panza Ranch, CA, 1995;

(5) Shedd Canyon, Calif., 1961, revised 1993; and

(6) Shandon, Calif., 1961, revised 1993.

(c) Boundary. The San Juan Creek viticultural area is located in San Luis Obispo County, California. The boundary of the San Juan Creek viticultural area is as described below:

(1) The beginning point is on the Cholame map in the Shandon Valley at the intersection of State Route 41 and San Juan Road, northern boundary of section 21, T26S/R15E. From the beginning point on the Cholame map, and crossing onto the Camatta Canyon map and then the Holland Canyon map, proceed south and then southeasterly approximately 16 miles along the eastern edge of the Shandon Valley and then the San Juan Valley by following San Juan Road (also locally known in places as Shandon San Juan Road, Camatti-Shandon Road, Bitterwater Canyon Road, and then San Juan Road again), passing the San Juan Ranch (where to road is marked as unimproved), to the road's intersection with the San Luis Obispo-Kern County boundary line at the eastern boundary line of section 12, T28S/R16E, which is also concurrent with the R16E/R17E common boundary line; then

(2) Proceed south along the R16E/R17E common boundary line approximately 1.3 miles, crossing onto the La Panza Ranch map, to the boundary line's intersection with an unnamed unimproved road locally known as Navajo Creek Road, immediately south of the 1,340-foot elevation line, section 13, T28S/R16E; then

(3) Proceed north-northwesterly on Navajo Creek Road to the road's intersection with the southern boundary line of section 12, T28S/R16E; then

(4) Proceed west along the southern boundary line of section 12, T28S/R16E, approximately 0.7 mile to the section's southwestern corner; then

(5) Proceed northerly in a straight line approximately 0.6 mile, crossing onto the Holland Canyon map, to the intersection of the 1,300-foot elevation line and an unnamed tributary of San Juan Creek (approximately 0.35 mile east of the 1,686-foot San Juan peak), in section 11, T28S/R16E; then

(6) Proceed northwesterly along the 1,300-foot elevation line approximately 1.3 miles to the line's first intersection with the western boundary line of section 2, T28S/R16E, northwest of Pear Tree Spring; then

(7) Proceed north along the western boundary line of section 2 approximately 0.55 to the section boundary line's last intersection with the 1,300-foot elevation line, near the northwestern corner of section 2, T28S/R16E; then

(8) Proceed northwesterly along the meandering 1,300-foot elevation line approximately 3.7 miles, crossing onto the Camatta Canyon map, to the elevation line's intersection with the western boundary line of section 28, T27S/R16E; then

(9) Proceed north along the western boundary line of section 28 approximately 0.15 mile to the section boundary line's intersection with an unnamed unimproved road, section 28, T27S/R16E; then

(10) Proceed northeasterly on the unnamed unimproved road approximately 3 miles as it follows the southwestern edge of the San Juan Valley to the road's intersection with western boundary line of section 18, T27S/R16E; then

(11) Proceed north along the western boundary line of section 18, T27S/R16E, approximately 0.2 mile to the section boundary line's intersection with 1,200-foot elevation line, section 18, T27S/R16E; then

(12) Proceed westerly then northerly along the 1,200-foot elevation line to the elevation line's intersection with the southern boundary of section 12, T27S/R15E; then

(13) Proceed west approximately 6.4 miles along the southern boundary lines of sections 12, 11, 10, 9, 8, and 7, T27S/R15E, crossing onto the Shedd Canyon map, and continue west along the southern boundary lines of sections 12 and 11, T27S/R14E, to the intersection of the southern boundary line of section 11 with an unnamed unimproved road locally known as Shedd Canyon Road (within Shedd Canyon 0.1 mile west of State Route 41); then

(14) Proceed northerly on Shedd Canyon Road approximately 3.2 miles, crossing onto the Shandon map, to the road's intersection with the southern boundary line of section 26, T26S/R14E; then

(15) Proceed west along the southern boundary line of section 26, T26S/R14E, to the boundary line's intersection with the unnamed intermittent stream located within Shedd Canyon; then

(16) Proceed northerly along the unnamed intermittent stream located within Shedd Canyon approximately 1.8 miles to the stream's intersection with the western boundary line of section 23, T26S/R14E; then

(17) Proceed north along the western boundary lines of sections 23 and 14, T26S/R14E, approximately 0.6 mile to the section 14 boundary line's intersection with State Route 46; then

(18) Proceed northeasterly in a straight line approximately 0.95 mile to the 1,481-foot “Estrella” elevation point, section 14, T26S/R14E; then

(19) Proceed north-northwesterly in a straight line approximately 1.25 miles to the line's intersection with 1,300-foot elevation line and the northern boundary line of section 11, T26S/R14E; then

(20) Proceed east along northern section boundary lines of sections 11 and 12, T26S/R14E, and the northern boundary lines of sections 7, 8, 9, and 10, T26S/R15E, approximately 5.9 miles in total distance and crossing onto the Cholame map, to the northeast corner of section 10, T26S/R15E (adjacent to State Routes 41/46); then

(21) Proceed south along the eastern boundary line of section 10, T26S/R15E, approximately 1 mile to the section's southeast corner; then

(22) Proceed west-southwesterly in a straight line approximately 1.8 miles, returning to the beginning point.

§ 9.__ San Miguel District.

(a) Name. The name of the viticultural area described in this section is “San Miguel District”. For purposes of part 4 of this chapter, “San Miguel District” is a term of viticultural significance.

(b) Approved maps. The three United States Geological Survey 1:24,000 scale topographic maps used to determine the boundary of the San Miguel District viticultural area are titled:

(1) San Miguel, Calif., 1948, photorevised 1979;

(2) Paso Robles, Calif., 1948, photorevised 1979; and

(3) Adelaida, Calif., 1948, photorevised 1978.

(c) Boundary. The San Miguel District is located in San Luis Obispo County, California. The boundary of the San Miguel District is as described below:

(1) The beginning point is on the San Miguel map at the intersection of U.S. Highway 101 and the San Luis Obispo-Monterey County boundary line, section 1, T25S/R11E. From the beginning point, proceed east along the San Luis Obispo-Monterey County line approximately 5.9 miles to the county line's intersection with San Jacinto Creek, section 1, T25S/R12E; then

(2) Proceed south-southwesterly (downstream) along San Jacinto Creek for approximately 6.5 miles, crossing on to the Paso Robles map, to the creek's confluence with the Estrella River, section 26, T25S/R12E; then

(3) Proceed southerly (upstream) 0.7 mile along the main channel of the Estrella River to the river's intersection with the southern boundary line of section 26, T25S/R12E;

(4) Proceed west along the southern boundary lines of sections 26, 27, and 28, T25S/R12E, approximately 1.85 miles to the section 28 boundary line's intersection with the Salinas River; then

(5) Proceed southerly (upstream) along the main channel of the Salinas River approximately 1.6 miles to the river's intersection with an unnamed light-duty road locally known as Wellsona Road, section 4, T26S/R12E; then

(6) Proceed west then northwesterly on Wellsona Road approximately 2 miles to the road's intersection with San Miguel Road (locally known as San Marcos Road), section 6, T26S/R12E; then

(7) Proceed west-southwesterly on San Miguel Road (locally known as San Marcos Road) approximately 2.6 miles, crossing onto the Adelaida map, to the road's intersection with the eastern boundary line of the Camp Roberts Military Reservation (approximately 400 feet east of the road's intersection with Generals Road), section 2, T26S/R11E; then

(8) Proceed northerly along the meandering eastern boundary line of the Camp Roberts Military Reservation (approximately 6.3 miles in straight line distance), crossing onto the San Miguel map, to the intersection of the military reservation's boundary line with U.S. Highway 101 near the northeast corner of section 7, T25S/R12E; then

(9) Proceed northwesterly on U.S. Highway 101 approximately 1.55 miles, returning to the beginning point.

§ 9.__ Santa Margarita Ranch.

(a) Name. The name of the viticultural area described in this section is “Santa Margarita Ranch”. For purposes of part 4 of this chapter, “Santa Margarita Ranch” is a term of viticultural significance.

(b) Approved maps. The four United States Geological Survey 1:24,000 scale topographic maps used to determine the boundary of the Santa Margarita Ranch viticultural area are titled:

(1) Santa Margarita, Calif., 1965, revised 1993;

(2) Lopez Mountain, CA, 1995;

(3) San Luis Obispo, CA, 1995; and

(4) Atascadero, CA, 1995.

(c) Boundary. The Santa Margarita Ranch is located in San Luis Obispo County, California. The boundary of the Santa Margarita Ranch is as follows:

(1) The beginning point is on the Santa Margarita map at the intersection of the northern boundary line of section 10, T29S/R13E, and the Salinas River. From the beginning point, proceed southerly (upstream) along the meandering Salinas River approximately 7.9 miles, crossing onto the Lopez Mountain map, to the river's intersection with the R13E/R14E boundary line, which coincides with the eastern boundary line of section 36, T29S/R13E; then

(2) Proceed south along the R13E/R14E boundary line approximately 3.2 miles to the boundary line's first intersection with the Los Padres National Forest boundary line, section 13, T30S/R13E; then

(3) Proceed northwesterly along the Los Padres National Forest boundary line approximately 4 miles to the Forest boundary line's intersection with the T29S/T30S boundary line, near the northwest corner of section 3, T30S/R13E; then

(4) Proceed west along the Los Padres National Forest boundary line and then the T29S/T30S boundary line approximately 2 miles to the southwest corner of section 32, T29S/R13E; then

(5) Proceed north along the western boundary line of section 32, T29S/R13E, and then the Los Padres National Forest boundary line to northwest corner of section 32 where the Forest boundary line makes a 90 degree turn to the west; then

(6) Proceed west along the Los Padres National Forest boundary line approximately 1.5 miles, crossing onto the San Luis Obispo map, to the point where the Los Padres National Forest boundary line first dips to the south and is no longer concurrent with the northern boundary line of section 36, T29S/R12E; then

(7) Proceed north-northwesterly in a straight line approximately 2.25 miles, crossing onto the Atascadero map, to the western-most intersection of the 1,400-foot elevation line with the northern boundary line of section 23, T29S/R12E; then

(8) Proceed west along the northern boundary line of section 23, T29S/R12E, approximately 0.6 mile to the section's northeast corner; then

(9) Proceed east along the western boundary line of section 13, T29S/R12E, to the section's northwest corner, and then continue east along the northern boundary line of section 13, T29S/R12E, to the section boundary line's intersection with the R12E/R13E common boundary line at section 13's northeast corner; then

(10) Proceed due north along the R12E/R13E common boundary line approximately 0.75 mile to the boundary line's intersection with the T-intersection of two unnamed unimproved roads, locally known as Powerline Road and Santa Margarita Road; then

(11) Proceed easterly and then east-northeasterly on Santa Margarita Road approximately 1.5 miles, crossing onto the Santa Margarita map, to the road's intersection with El Camino Real, Santa Margarita Land Grant, T29S/R13E; then

(12) Proceed southeasterly on El Camino Real approximately 300 feet to the road's intersection with an unnamed light-duty road locally known as Asuncion Road at BM 931 (just south of Santa Margarita Creek), Santa Margarita Land Grant; then

(13) Proceed northeasterly on Asuncion Road approximately 0.3 mile (crossing a railroad line) to the road's intersection with Chispa Road; then

(14) Proceed due east in a straight line approximately 0.1 mile to the line's intersection with the boundary line of the Santa Margarita Land Grant, which, at this point, is concurrent with the southwestern boundary line of section 5, T29S/R13E; then

(15) Proceed southeasterly along the Santa Margarita Land Grant boundary line approximately 0.7 mile to the boundary line's intersection with the northwest corner of section 9, T29S/R13E, and then continue east along the northern boundary lines of sections 9 and 10, T29S/R13E, approximately 1.15 miles, returning to the beginning point.

§ 9.__ Templeton Gap District.

(a) Name. The name of the viticultural area described in this section is “Templeton Gap District”. For purposes of part 4 of this chapter, “Templeton Gap District” is a term of viticultural significance.

(b) Approved maps. The two United States Geological Survey 1:24,000 scale topographic maps used to determine the boundary of the Templeton Gap District viticultural area are titled:

(1) Templeton, Calif., 1948, photorevised 1979; and

(2) York Mountain, Calif., 1948, photorevised 1979.

(c) Boundary. The Templeton Gap viticultural area is located in San Luis Obispo County, California. The boundary of the Templeton Gap District viticultural area is as follows:

(1) The beginning point is on the northern portion of the Templeton map at the point where the marked southern city of Paso Robles Corporate Boundary line intersects the Salinas River (now very approximate to the point where Niblick Road crosses the Salinas River). From the beginning point, proceed southerly (upstream) along the Salinas River approximately 1.1 miles to the river's confluence with the first marked unnamed intermittent stream flowing from the east, Santa Ysabel Land Grant; then

(2) Proceed southeasterly (upstream) along the unnamed intermittent stream approximately 0.4 mile to the stream's intersection with an unnamed light-duty road locally known as S. River Road, Santa Ysabel Land Grant; then

(3) Proceed southeasterly then southerly on S. River Road approximately 2.2 miles to the road's intersection with an unnamed light-duty road locally known as Neal Springs Road, Santa Ysabel Land Grant; then

(4) Proceed east on Neal Springs Roads approximately 0.4 mile to the road's intersection with an unnamed light-duty road locally known as Hollyhock Lane, Santa Ysabel Land Grant; then

(5) Proceed south-southeasterly on Hollyhock Lane approximately 0.95 mile to the road's intersection with an unnamed light-duty road locally known as El Pomar Drive, Santa Ysabel Land Grant; then

(6) Proceed southerly in a series of straight lines, totaling approximately 1.4 miles, through the 1,329-foot and 1,338-foot elevation points (crossing from the Santa Ysabel to the Asuncion Land Grants) to the 1,344-foot elevation point; then

(7) Proceed southwesterly in a straight line approximately 0.3 mile to the elevation control point (marked by a triangle) above the 1,440-foot contour line, Asuncion Land Grant; then

(8) Proceed south-southeasterly in a straight line approximately 0.8 mile to the 1,452-foot elevation point, and continue south-southwesterly in a straight line approximately 0.3 mile to the intersection of two light-duty roads locally known as S. El Pomar Road and Homestead Road, Asuncion Land Grant; then

(9) Proceed west-southwesterly in a straight line approximately 1.1 miles to the point where an unnamed light-duty road locally known as Templeton Road intersects with an unnamed intermittent stream (where Templeton Road makes a 90 degree turn at its junction with two unnamed unimproved roads), Asuncion Land Grant; then

(10) Proceed westerly (downstream) along the unnamed intermittent stream approximately 0.5 mile to the stream's confluence with the Salinas River, Asuncion Land Grant; then

(11) Proceed westerly (downstream) along the Salinas River approximately 2.3 miles to the river's intersection with the boundary line of the Paso de Robles Land Grant; then

(12) Proceed southwesterly along the boundary line of the Paso de Robles Land Grant approximately 2.3 miles to the point where the boundary line turns sharply to the northwest; then

(13) Proceed northwesterly approximately 4.65 miles along the boundary line of the Paso de Robles Land Grant, crossing onto the York Mountain map, to the point where the boundary line turns due north (coincides with the southeast corner of section 32, T27S/R11E); then

(14) Proceed north and then north-northeasterly along the boundary line of the Paso de Robles Land Grant approximately 1.5 miles to the point where the boundary line turns sharply to the northwest (coincides with the eastern-most point of section 20, T27S/R11E); then

(15) Proceed northwesterly along the boundary line of the Paso de Robles Land Grant approximately 0.3 mile to the eastern-most fork of an unnamed three-fork tributary of the Jack Creek; then

(16) Proceed northerly (downstream) along the unnamed intermittent tributary of Jack Creek approximately 0.15 mile to the tributary's confluence with Jack Creek, Paso de Robles Land Grant; then

(17) Proceed southeasterly (downstream) along Jack Creek approximately 1.8 miles to the creek's intersection with an unnamed light-duty road locally known as Jack Creek Road (near BM 920), Paso de Robles Land Grant; then

(18) Proceed northeasterly and then east-southeasterly along Jack Creek Road approximately 1 mile to the road's intersection with State Route 46; then

(19) Proceed east on State Route 46 approximately 0.15 mile to the road's intersection with an unnamed light-duty road locally known as Hidden Valley Road, Paso de Robles Land Grant; then

(20) Proceed southeasterly and then easterly on Hidden Valley Road approximately 2.2 miles, crossing onto the Templeton map, to the road's intersection with an unnamed light-duty road locally known as Vineyard Drive, Paso de Robles Land Grant; then

(21) Proceed east on Vineyard Drive approximately 0.85 mile to the road's intersection with an unnamed light-duty road locally known as S. Bethel Road, Paso de Robles Land Grant; then

(22) Proceed north-northeasterly on S. Bethel Road and then N. Bethel Road approximately 1.7 miles to the road's fifth intersection with an unnamed intermittent stream, Paso de Robles Land Grant; then

(23) Proceed westerly (upstream) along the unnamed intermittent stream and then the stream's middle branch approximately 1.1 miles to the marked end of the stream, and then continue due west in a straight line approximately 0.05 mile to State Route 46 (Cayucos Road), Paso de Robles Land Grant; then

(24) Proceed northeasterly on State Route 46 (Cayucos Road) approximately 0.8 mile to BM 924, Paso de Robles Land Grant; then

(25) Proceed due north in a straight line to the southeast corner of section 12, T27S/R11E, and continue north along the eastern boundary line of section 12, a total of approximately 1.1 miles, to the section boundary line's intersection with a light-duty road locally known as Live Oak Road; then

(26) Proceed easterly on Live Oak Road approximately 0.2 mile to the road's intersection with an unnamed intermittent stream, Paso de Robles Land Grant; then

(27) Proceed northwesterly (upstream) along the unnamed intermittent stream approximately 0.35 mile to the eastern boundary line of section 12, T27S/R11E; then

(28) Proceed north along the eastern boundary line of section 12, T27S/R11E, to the section's northeast corner, and then proceed east along the southern boundary line of section 6, T27S/R11E, a total of approximately 1.3 miles, to the intersection of the section 6 boundary line with an unnamed light-duty road locally known as Arbor Road; then

(29) Proceed south-southeasterly on Arbor Road approximately 0.35 mile to the road's first intersection with an unnamed intermittent stream, Paso de Robles Land Grant; then

(30) Proceed southeasterly and then easterly (downstream) along the unnamed intermittent stream approximately 1.4 miles to the stream's intersection with an unnamed light-duty road known locally as S. Vine Street, just west of the U.S. 101/State Route 46 interchange, Paso de Robles Land Grant; then

(31) Proceed northerly along S. Vine Street (which generally parallels U.S. 101) approximately 1.8 miles to the street's intersection with the marked city of Paso Robles Corporate Boundary line (concurrent with the locally-known intersection of S. Vine and 1st Streets), Paso de Robles Land Grant; then

(32) Proceed east along the marked city of Paso Robles Corporate Boundary line (now very approximate to the alignment of 1st Street and then Niblick Road) approximately 0.5 mile, returning to the beginning point.

Signed: September 6, 2013.
John J. Manfreda,
Administrator.

[FR Doc. 2013-22528 Filed 9-19-13; 8:45 am]

BILLING CODE 4810-31-P